DEPARTMENT OF HOUSING AND URBAN DEVELOPMENT

[Docket No. FR-6000-FA-05; FR-6000-FA-04; FR-6000-FA-14; FR-6000-FA-29; FR-6100-FA-12; FR-6100-FA-13; FR-6100-FA-33]

Announcement of Funding Awards

AGENCY: Office of Strategic Planning and Management, HUD.

ACTION: Notice.

SUMMARY: In accordance with the Department of Housing and Urban Development Reform Act of 1989, this announcement notifies the public of funding decisions made by the Department in competitions for funding under the Notices of Funding Availability (NOFAs) for the following programs: Fiscal Year (FY) 2016 Resident Opportunity and Self-Sufficiency Program; FY2016 Family Self-Sufficiency Program; FY2016 Jobs Plus Initiative; FY2016 Research and Evaluation, Demonstration, and Data Analysis and Utilization; FY2017 Comprehensive Housing Counseling Grant Program; FY2017 Lead-Based Paint Hazard Control Grant Program; and FY2017 Lead Hazard Reduction Demonstration Grant Program.

For Additional Information, Contact: Office of Strategic Planning and Management, Grants Management and Oversight Division at AskGMO@hud.gov or the contact person listed in each appendix.

SUPPLEMENTARY INFORMATION: The FY2016 Resident Opportunity and Self-Sufficiency Program competition was announced in the NOFA published on grants.gov on March 31, 2016, FR-6000-N-05, and which closed on May 16, 2016. Applications were rated and selected for funding based on selection criteria contained in the NOFA. $31,597,607 was awarded to 115 recipients to develop local coordination of assistance under the Public Housing program with public and private resources, for supportive services and resident empowerment activities. Service Coordinators link program participants with the supportive services needed to achieve self-sufficiency or remain independent. The list of grantees selected under this NOFA are listed in Appendix A of this notice.

The FY2016 Family Self-Sufficiency Program competition was announced in the NOFA published on grants.gov on March 21, 2016, FR-6000-N-04, and which closed on April 20, 2016. Applications were rated and selected for funding based on selection criteria contained in the NOFA. $75,158,372 was awarded to 687 recipients to coordinate the use of assistance under the Housing Choice Voucher (HCV) and Public Housing programs with public and private resources to enable participating families to increase earned income and financial literacy, reduce or eliminate the need for welfare assistance, and make progress toward economic independence and self-sufficiency. The list of grantees selected under this NOFA are listed in Appendix B of this notice.

The FY2016 Jobs Plus Initiative competition was announced in the NOFA published on grants.gov on April 11, 2016, FR-6000-N-14, and which closed on June 13, 2016. Applications were rated and selected for funding based on selection criteria contained in the NOFA. $14,397,553 was awarded to six recipients to develop locally-based, job-driven approaches to increase earnings and advance employment outcomes through work readiness, employer linkages, job placement, educational advancement technology skills, and financial literacy for residents of public housing. The list of grantees selected under this NOFA are listed in Appendix C of this notice.

The FY2016 Research and Evaluation, Demonstration, and Data Analysis and Utilization competition was announced in the NOFA published on grants.gov on February 10, 2017, FR-6000-N-29, and which closed on May 11, 2017. Applications were rated and selected for funding based on selection criteria contained in the NOFA. $2,899,177 was awarded to four recipients for programs that seek to inform policy development and implementation to improve life in American communities through conducting, supporting, and sharing research, surveys, demonstrations, program evaluations, and best practices. Funding was awarded to conduct the Accessible Housing and Technology Research and Demonstration and Technical Assistance Assessment. The list of grantees selected under this NOFA are listed in Appendix D of this notice.

The FY2017 Comprehensive Housing Counseling Grant Program competition was announced in the NOFA published on grants.gov on January 31, 2017, FR-6100-N-33, and which closed on March 17, 2017. Applications were rated and selected for funding based on selection criteria contained in the NOFA. $50,672,051 was awarded to 253 recipients to provide counseling and advice to tenants and homeowners, both current and prospective, regarding property maintenance, financial management/literacy, and other matters as may be appropriate to assist them in improving their housing conditions, meeting their financial needs, and fulfilling the responsibilities of tenancy or homeownership. The list of grantees selected under this NOFA are listed in Appendix E of this notice.

The FY2017 Lead-Based Paint Hazard Control Grant Program competition was announced in the NOFA published on grants.gov on February 7, 2017, FR-6100-N-12, and which closed on March 23, 2017. Applications were rated and selected for funding based on selection criteria contained in the NOFA. $66,448,640 was awarded to 28 recipients for units of state and local government to implement comprehensive programs to identify and remediate lead based paint hazards in privately owned rental or owner occupied housing. The list of grantees selected under this NOFA are listed in Appendix F of this notice.

The FY2017 Lead Hazard Reduction Demonstration Grant Program competition was announced in the NOFA published on grants.gov on February 7, 2017, FR-6100-N-13, and which closed on March 23, 2017. Applications were rated and selected for funding based on selection criteria contained in the NOFA. $60,327,424 was awarded to 20 recipients for units of state and local government to implement comprehensive programs to identify and remediate lead based paint hazards in privately owned rental or owner occupied housing. HUD recognizes that one of the applicants selected for award, the City of Houston, TX, has been subject to devastation caused by Hurricane Harvey and that the City will be facing overwhelming challenges for an extended period. Accordingly, and with the City's agreement, instead of considering obligating FY 2017/2018 funds for their grant, pending successful completion of negotiations, HUD will reserve FY 2018/2019 funds when appropriated, apportioned, and allotted, for obligation pending successful completion of negotiations in FY 2018. The FY 2017/2018 funds will be used for other lead hazard control grants, as permitted by the Consolidated Appropriations Act, 2017, specifically for additional partial funding of Lead-Based Paint Hazard Control grants to the City of Brockton, MA, and the Malden Redevelopment Authority, Malden, MA. The list of grantees selected under this NOFA are listed in Appendix G of this notice.

In accordance with section 102(a)(4)(C) of the Department of Housing and Urban Development Reform Act of 1989 (103 Stat. 1987, 42 U.S.C. 3545(a)(4)(C)), the Department is publishing the awardees and the amounts of these awards in Appendices A-G to this document.

Dated: September 26, 2017.
Henry Hensley,
Director, Office of Strategic Planning and Management.

[FR-6000-FA-05]

[FR-6000-FA-04]

[FR-6000-FA-14]

[FR-6000-FA-29]

[FR-6100-FA-12]

[FR-6100-FA-13]

[FR-6100-FA-33]

Appendix A

FY2016 Resident Opportunity and Self-Sufficiency Program

Contact: Tremayne Youmans; 202-402-6621.

Recipient |  |  |  |  | Amount
Catholic Community Service | 419 Sixth Street | Juneau | AK | 99801-1072 | $224,298
Pribilof Islands Aleut Community of St. Paul Island | Box 86 | St. Paul Island | AK | 99660-0086 | 246,000
Housing Authority of the Birmingham District | 1826 3rd Ave. South | Birmingham | AL | 35233-1941 | 738,000
Housing Authority of the City of Eufaula | P.O. Box 36 | Eufaula | AL | 36072-0000 | 165,800
Huntsville Housing Authority | 200 Washington Street | Huntsville | AL | 35804-0486 | 492,000
City of Tucson | 310 N. Commerce Park Loop Public Housing Auth. Division | Tucson | AZ | 85726-7210 | 246,000
Bishop Paiute Tribe | 50 Tu Su Lane | Bishop | CA | 93514-8058 | 191,812
Housing Authority of the County of San Joaquin | 448 S. Center Street | Stockton | CA | 95203-3426 | 321,586
Housing Authority of the County of Stanislaus | 1701 Robertson Road Housing Program Services | Modesto | CA | 95358-0033 | 246,000
Housing Authority of the County of Yolo | 147 West Main Street Client Services | Woodland | CA | 95695-2914 | 246,000
North Lincoln Local Resident Council | 1401 Mariposa Street Local Resident Council | Denver | CO | 80204-2503 | 200,545
Thomas Bean Local Resident Council | 2350 Cleveland Place Local Resident Council | Denver | CO | 80205-3208 | 200,545
Callahan House Association | 32 Smith Street | Seymour | CT | 06483-3738 | 246,000
Housing Authority of the City of Meriden | 22 Church St. Resident Services Department | Meriden | CT | 06451-3256 | 246,000
Housing Authority of the City of New Britain | 16 Armistice St | New Britain | CT | 06053-0000 | 246,000
West Haven Housing Authority | 15 Glade Street | West Haven | CT | 06516-0000 | 246,000
Wilmington Housing Authority | 400 N Walnut Street | Wilmington | DE | 19802-1436 | 492,000
Housing Authority of Brevard County | 1401 Guava Ave | Melbourne | FL | 32935-0000 | 233,938
Housing Authority of the City of Cocoa | 828 Stone Street | Cocoa | FL | 32922-0000 | 246,000
Housing Authority of the City of Lakeland, Florida | 430 Hartsell Avenue | Lakeland | FL | 33815-4502 | 219,185
Housing Authority of the City of Winter Park | 718 Margaret Square | Winter Park | FL | 32789-1932 | 222,710
Jacksonville Housing Authority | 1300 Broad Street North Resident Svcs | Jacksonville | FL | 32202-3938 | 655,200
Manatee County Housing Authority | 5631 11th Street East | Bradenton | FL | 34203-5978 | 223,860
Orange Avenue United Tenants Association, Inc | 1700 Joe Louis St | Tallahassee | FL | 32304-0000 | 220,198
Pahokee Housing Authority | 465 Friend Terrace | Pahokee | FL | 33476-1941 | 192,000
Pinellas County Housing Authority | 11479 Ulmerton Road | Largo | FL | 33778-1147 | 242,053
Sarasota Housing Authority Agency-wide Resident Council, Inc | 1300 Boulevard of the Arts | Sarasota | FL | 34236-4967 | 209,612
Dublin Housing Authority | 500 West Mary Street | Dublin | GA | 31040-0036 | 205,689
Griffin Housing Authority | 518 Nine Oaks Drive | Griffin | GA | 30224-4169 | 187,614
Housing Authority of the City of College Park | 2000 Princeton Avenue | College Park | GA | 30337-2412 | 246,000
Housing Authority of the City of Gainesville | 750 Pearl Nix Parkway | Gainesville | GA | 30503-7016 | 244,000
Macon-Bibb County Housing Authority | 2015 Felton Avenue | Macon | GA | 31201-4928 | 410,482
Guam Housing and Urban Renewal Authority | 117 Bien Venida Avenue | Sinajana | GU | 96910-4643 | 183,606
Coeur d'Alene Tribal Housing Authority | 1005 8th St | Plummer | ID | 83851 | 234,144
Central Advisory Council | 243 E. 32nd Street | Chicago | IL | 60616-3974 | 195,990
Housing Authority of Henry County | 125 N. Chestnut Street | Kewanee | IL | 61443-0125 | 188,761
Peoria Housing Authority | 100 S. Richard Pryor Place | Peoria | IL | 61605-3905 | 246,000
Springfield Housing Authority | 200 North Eleventh Street | Springfield | IL | 62703-1004 | 482,094
Winnebago County Housing Authority | 3617 Delaware Street | Rockford | IL | 61102-1506 | 241,476
Campbellsville Housing & Redevelopment Authority | 400 Ingram Ave | Campbellsville | KY | 42718-1627 | 246,000
City of Lebanon dba Housing Authority of Lebanon | 101 Hamilton Heights ROSS Service Coordinator | Lebanon | KY | 40033-1369 | 246,000
Housing Authority of Owensboro | 2161 East 19th Street | Owensboro | KY | 42303 | 228,053
Lexington-Fayette Urban County Housing Authority | 300 W. New Circle Road | Lexington | KY | 40505-1428 | 230,727
Dillard University | 2601 Gentilly Blvd Office of Community Relations | New Orleans | LA | 70122-3043 | 246,000
Housing Authority of St. John the Baptist Parish | 152 Joe Parquet Circle | LaPlace | LA | 70068-0000 | 228,517
Brookline Housing Authority | 90 Longwood Ave | Brookline | MA | 02446-0000 | 246,000
Framingham Housing Authority | 1 John J. Brady Drive | Framingham | MA | 01702-2307 | 246,000
Malden Housing Authority | 630 Salem Street | Malden | MA | 02148-4361 | 246,000
Somerville Housing Authority | 30 Memorial Road | Somerville | MA | 02145-1704 | 246,000
Springfield Housing Authority | 60 Congress Street | Springfield | MA | 01101-1609 | 185,959
Housing Authority of the City of Annapolis | 1217 Madison St | Annapolis | MD | 21403-0000 | 246,000
O'Donnell Heights Tenant Council Inc | 1200 Gusryan Street | Baltimore | MD | 21224-5548 | 246,000
Bath Housing Authority | 80 Congress Avenue | Bath | ME | 04530-1542 | 217,679
Ellsworth Housing Authority | P.O. Box 28 | Bar Harbor | ME | 04609-0028 | 211,482
Housing Authority of the City of Brewer | 15 Colonial Circle, Suite 1 | Brewer | ME | 04412-1448 | 175,000
Melvindale Housing Commission | 3501 Oakwood Boulevard | Melvindale | MI | 48122-0000 | 246,000
Port Huron Housing Commission | 905 Seventh Street | Port Huron | MI | 48060 | 205,800
St. Louis Housing Authority | 3520 Page Boulevard Business Development | St. Louis | MO | 63106-1417 | 492,000
Housing Authority of the City of Meridian | 2425 E Street | Meridian | MS | 39302-870 | 268,009
Housing Authority of the City of Canton | 120 Faith Lane | Canton | MS | 39046-9761 | 245,000
Salish & Kootenai Housing Authority | P.O. Box 38 | Pablo | MT | 59855-0038 | 206,565
Housing Authority of the City of Goldsboro | 700 North Jefferson Ave. Public Housing | Goldsboro | NC | 27530-3135 | 415,388
Lenoir Housing Authority | 101 Hickory Street | North Wilkesboro | NC | 28659-3521 | 201,000
Housing Authority of the City of Lincoln | 5700 R Street | Lincoln | NE | 68505-2332 | 246,000
Housing Authority of the City of Omaha | 1805 Harney Street Resident Opportunity | Omaha | NE | 68102-1908 | 718,776
Kearney Housing Authority | P.O. Box 1236 | Kearney | NE | 68848-1236 | 135,274
Northern Ponca Tribal HA | 1501 Michigan Avenue | Norfolk | NE | 68701-5602 | 227,740
Atlantic City Housing & Redevelopment Authority | 227 North Vermont Avenue, 17th Floor | Atlantic City | NJ | 08401-5563 | 467,439
Garfield Housing Authority | 71 Daniel P. Conte Court | Garfield | NJ | 07026-2404 | 221,079
Housing Authority of the City of Camden | 2021 Watson Street, 2nd Floor | Camden | NJ | 08105-1866 | 475,150
Housing Authority of the City of Elizabeth | 688 Maple Avenue | Elizabeth | NJ | 07202 | 492,000
Housing Authority of the City of Vineland | 191 West Chester Avenue | Vineland | NJ | 08360-5417 | 240,000
North Bergen Housing Authority | 6121 Grand Avenue | North | NJ | 07047-0000 | 246,000
City of Beacon Housing Authority | 1 Forrestal Avenue | Beacon | NY | 12508-0000 | 246,000
Syracuse Housing Authority | 516 Burt Street | Syracuse | NY | 13202-3934 | 478,000
Cuyahoga Metropolitan Housing Authority | 8120 Kinsman Road | Cleveland | OH | 44104-4310 | 644,851
Lorain Metropolitan Housing Authority | 1600 Kansas Avenue | Lorain | OH | 44052-3317 | 201,319
Portage Metropolitan Housing Authority | 2832 State Route 59 | Ravenna | OH | 44266-1650 | 231,624
Trumbull Metropolitan Housing Authority | 4076 Youngstown Rd. SE., Suite 101 | Warren | OH | 44484-3397 | 224,185
Housing and Community Services Agency of Lane County | 177 Day Island Rd. Property Management | Eugene | OR | 97401-7911 | 246,000
Warm Springs Housing Authority | P.O. Box 1167 | Warm Springs | OR | 97761-1167 | 156,000
Bradford County Housing Authority | 4 Riverside Plaza | Blossburg | PA | 16912-0000 | 220,153
Community Action Southwest | 150 West Beau Street | Washington | PA | 15301-4425 | 180,000
Community Action Southwest | 150 West Beau Street | Washington | PA | 15301-4425 | 180,000
Housing Authority of the City of Erie | 606 Holland Street | Erie | PA | 16501-1285 | 367,635
Housing Authority of the County of Beaver | 300 State Avenue | Beaver | PA | 15009-1629 | 447,597
Montgomery County Housing Authority | 104 W. Main Street Public Housing | Norristown | PA | 19401-4716 | 175,304
Philadelphia Housing Authority | 12 South 23rd Street Self-Sufficiency | Philadelphia | PA | 19103-3104 | 721,350
Tioga County Housing Authority | 4 Riverside Plaza | Blossburg | PA | 16912-0000 | 220,153
Housing Authority of Florence | 400 E Pine St. | Florence | SC | 29506-0000 | 143,078
North Charleston Housing Authority | 2170 Ashley Phosphate Rd., #700 | North Charleston | SC | 29406-4195 | 246,000
Chattanooga Housing Authority | 801 N. Holtzclaw Avenue | Chattanooga | TN | 37401-1486 | 417,336
Franklin Housing Authority | 200 Spring Street | Franklin | TN | 37064-3311 | 205,999
Memphis Housing Authority | 700 Adams Avenue | Memphis | TN | 38105-5002 | 713,910
Newport Housing Authority Resident Advisory Council | 440 Lennon Circle ROSS Coordinator | Newport | TN | 37821-2800 | 179,565
The Clarksville Housing Authority | 721 Richardson Street | Clarksville | TN | 37040-0603 | 235,000
Housing Authority of the City of Beaumont | 1890 Laurel | Beaumont | TX | 77701-1904 | 206,235
Housing Authority of the City of Bryan | 1306 Beck Street | Brazos | TX | 77803-0000 | 192,200
Housing Authority of the City of Wichita Falls | 501 Webster | Wichita Falls | TX | 76306 | 187,323
McAllen Housing Authority | 2301 Jasmine Avenue | McAllen | TX | 78501-7496 | 150,000
McKinney Housing Authority | 1200 N. Tennessee St | McKinney | TX | 75069-0000 | 218,251
Port Arthur Housing Authority | 920 DeQueen Boulevard | Port Arthur | TX | 77640-5603 | 229,381
Robstown Housing Authority | 625 West Avenue F | Robstown | TX | 78380-2540 | 168,772
The Housing Authority of the City of Dallas, Texas (DHA) | 3939 N. Hampton Rd | Dallas | TX | 75212-1630 | 696,316
Cedar Terrace Tenant Association | 127 Cedar Place Not Applicable | Danville | VA | 24541-3432 | 205,759
Norfolk Redevelopment and Housing Authority | 201 Granby Street Housing Operations | Norfolk | VA | 23510-1820 | 492,000
Portsmouth Redevelopment and Housing Authority | 3116 South Street | Portsmouth | VA | 23705 | 404,404
Brattleboro Housing Authority | P.O. Box 2275 | Brattleboro | VT | 05303-0000 | 246,000
King County Housing Authority | 600 Andover Park West Resident Services | Tukwila | WA | 98188-3326 | 485,238
Nooksack Indian Tribe | P.O. Box 157 | Deming | WA | 98244-0157 | 237,539
Yakama Nation Housing Authority | 611 S. Camas Avenue ROSS Grant | Wapato | WA | 98951-0156 | 240,226
Appleton Housing Authority | 925 W. Northland Ave | Appleton | WI | 54914-1422 | 246,000
Arlington Court Resident Organization, Inc | 650 W Reservoir Ave | Milwaukee | WI | 53212-3646 | 240,818
Becher Court RO, Inc | c/o Kenneth Barbeau, Contract Admin. HACM Public and Indian Housing | Milwaukee | WI | 53212-3646 | 240,818
Riverview Resident Organization, Inc | 650 W Reservoir Ave | Milwaukee | WI | 53212-3646 | 240,818

#

Appendix B

FY2016 Family Self-Sufficiency Program

Contact: Tremayne Youmans; 202-402-6621.

Recipient |  |  |  |  | Amount
Alaska Housing Finance Agency | P.O. Box 101020 | Anchorage | AK | 99510-1020 | $267,642
Albertville Housing Authority | 711 South Broad Street | Albertville | AL | 35950-2674 | 21,121
Alexander City Housing Authority | 2110 County Road | Alexander City | AL | 35010-3800 | 38,773
Auburn Housing Authority | 931 Booker Street | Auburn | AL | 36832-2902 | 60,000
Bessemer Housing Authority | 1515 Fairfax Avenue | Bessemer | AL | 35020-6648 | 54,742
Housing Authority of the Birmingham District | 1826 3rd Avenue South | Birmingham | AL | 35233-1905 | 135,214
Jefferson County Housing Authority | 3700 Industrial Parkway | Birmingham | AL | 35217-5316 | 135,000
Florence Housing Authority | 110 South Cypress St., Suite 1 | Florence | AL | 35630-5523 | 52,246
Huntsville Housing Authority | 200 Washington Street | Huntsville | AL | 35804-0486 | 240,576
Mobile Housing Board | 151 S. Claiborne Street | Mobile | AL | 36602-2323 | 209,062
The Housing Authority of the City of Montgomery | 525 South Lawrence Street | Montgomery | AL | 36104-4611 | 109,801
Prichard Housing Authority | P.O. Box 10307 | Prichard | AL | 36610-0000 | 95,502
Sheffield Housing Authority | 505 N. Columbia Ave | Sheffield | AL | 35660-0429 | 50,212
Tuscaloosa Housing Authority | P.O. Box 2281 | Tuscaloosa | AL | 35401-2281 | 121,000
Housing Authority of Lonoke County | P.O. Box 74 | Carlisle | AR | 72024-0074 | 21,331
Fort Smith Housing Authority | 2100 North 31st Street | Fort Smith | AR | 72904-6140 | 52,025
Northwest Regional Housing Authority | P.O. Box 2568 | Harrison | AR | 72601-2568 | 41,016
Housing Authority of the City of Hot Springs | 1004 Illinois Street | Hot Springs | AR | 71901-4315 | 47,073
Jonesboro Urban Renewal and Housing Authority | 330 Union | Jonesboro | AR | 72401-2815 | 42,460
Pulaski County Housing Agency | 201 South Broadway, Suite 220 | Little Rock | AR | 72201-2338 | 43,974
Lee County Housing Authority | 100 West Main | Marianna | AR | 72360-2854 | 27,596
McGehee Public Facilities Board | P.O. Box 725 | McGehee | AR | 71654-0725 | 39,810
White River Regional Housing Authority | P.O. Box 650 | Melbourne | AR | 72556-0650 | 39,594
Conway County Housing Authority | P.O. Box 229 | Morrilton | AR | 72110-0000 | 39,543
North Little Rock Housing Authority | 628 West Broadway, Suite 100 | North Little Rock | AR | 72114-0000 | 44,295
Pine Bluff Housing Authority | P.O. Box 8872 | Pine Bluff | AR | 71611-8872 | 127,000
Pope County Public Facilities Board/Universal Housing | P.O. Box 846/301 East 3rd Street | Russellville | AR | 72811-846 | 18,026
Housing Authority of the City of West Memphis | 390 South Walker Avenue | West Memphis | AR | 72301-6013 | 44,900
Wynne Housing Authority | 200 Fisher Place | Wynne | AR | 72396-0552 | 34,340
City of Tempe Housing Services | 1415 Melody Lane, Bldg. A | Bisbee | AZ | 85282-5482 | 68,680
White Mountain Apache Housing Authority | Mail Stop 101, P.O. Box 4008 | Chandler | AZ | 85941-1270 | 58,000
Housing Authority of Cochise County | 425 10th Street | Douglas | AZ | 85603-0000 | 55,476
Housing Authority for the City of Yuma | P.O. Box 7000 | Kingman | AZ | 85364-2320 | 311,958
City of Mesa | P.O. Box 1466 | Mesa | AZ | 85211-1466 | 68,680
Housing Authority of Maricopa County | 8910 N. 78th Avenue | Peoria | AZ | 85345-7900 | 69,000
City of Phoenix Housing Department | 251 W. Washington, 4th Floor | Phoenix | AZ | 85003-2245 | 207,000
Chandler, City of | 6535 E. Osborn Rd., Bldg. 8, Paiute Neighborhood Center | Scottsdale | AZ | 85244-4008 | 121,732
Mohave, County of | P.O. Box 790 | Sells | AZ | 86402-7000 | 50,601
Yuma County Housing Department | 8450 W. Highway 95 Suite 88 | Somerton | AZ | 85350-2534 | 179,804
Tohono O'odham Ki:Ki Housing Association | 3500 S. Rural Rd., 2nd Floor | Tempe | AZ | 85634-0790 | 69,000
City of Tucson | P.O. Box 27210 | Tucson | AZ | 85726-7210 | 206,680
Douglas City of Public Housing | 50 West Chinatown Street | Whiteriver | AZ | 85607-2008 | 34,500
City of Scottsdale Housing Agency | 420 South Madison Avenue | Yuma | AZ | 85251-6029 | 68,680
Housing Authority of the County of Santa Cruz | 700 W. Main Street | Alhambra | CA | 95060-5709 | 138,000
City of Norwalk | 201 South Anaheim Boulevard | Anaheim | CA | 90650-3144 | 64,637
Housing Authority of the City of Santa Barbara | 601-24th Street Front | Bakersfield | CA | 93101-1590 | 201,604
Housing Authority of the County of Sacramento | 264 Harbor Blvd., #A | Belmont | CA | 95814-2404 | 131,615
El Dorado County Public Housing Authority | 1402 D Street | Brawley | CA | 95667-5335 | 59,902
Housing Authority of the County of Merced | 2039 Forest Ave | Chico | CA | 95341-6548 | 54,400
Vacaville Housing Authority | 9770 Culver Blvd | Culver City | CA | 95688-6824 | 132,424
Housing Authority of the County of San Bernardino | 1331 Fulton Mall | Fresno | CA | 92408-2841 | 207,000
Pico Rivera Housing Assistance Agency | 11277 Garden Grove Blvd. Suite #101c | Garden Grove | CA | 90660-1016 | 32,500
Housing Authority of the County of Riverside | 680 N. Douty, P.O. Box 355 | Hanford | CA | 92504-2506 | 483,000
Housing Authority of the City of San Buenaventura | 22941 Atherton Street | Hayward | CA | 93001-1636 | 64,264
City of Santa Rosa | 815 West Ocean Avenue | Lompoc | CA | 95404-4904 | 68,000
City of Anaheim Housing Authority | 521 E. 4th Street | Long Beach | CA | 92805-3821 | 137,360
Housing Authority of the City of Napa | 2600 Wilshire Boulevard | Los Angeles | CA | 94559-2512 | 138,000
Housing Authority of the City of Long Beach | 15975 Anderson Ranch Parkway | Lower Lake | CA | 90802-2502 | 269,723
Housing Authority of the County of Butte | 205 North G Street | Madera | CA | 95928-7042 | 63,600
Housing Authority of the City of Sacramento | 3133 Estudillo Street | Martinez | CA | 95814-2404 | 69,000
Housing Authority of the County of Kern | 405 U Street | Merced | CA | 93301-4142 | 251,216
Housing Authority of the County of San Mateo | 1701 Robertson Road | Modesto | CA | 94002-4017 | 345,000
Housing Authority of the County of Marin | 1115 Seminary Street | Napa | CA | 94903-4173 | 206,959
San Diego, County (DBA Housing Authority of the County of SD) | 1400 West Hillcrest Drive | Newbury Park | CA | 92123-1815 | 136,327
City of Oceanside Community Development Commission | 12700 Norwalk Blvd | Norwalk | CA | 92054-2823 | 68,680
Housing Authority of the County of Los Angeles | 1619 Harrison Street | Oakland | CA | 91801-3312 | 690,000
Lake County Housing Commission | 300 N. Coast Hwy | Oceanside | CA | 95457-1049 | 34,500
The Housing Authority of the City of Santa Ana | 435 South D Street | Oxnard | CA | 92702-2030 | 138,000
Solano County Housing Authority | 6615 Passons Blvd | Pico Rivera | CA | 95688-6824 | 57,131
Madera, City of | 2900 Fairlane Ct | Placerville | CA | 93637-3512 | 56,720
Imperial Valley Housing Authority | 505 S Garey Ave | Pomona | CA | 92227-2117 | 60,641
Housing Authority of the City of San Jose | 1450 Court St., Suite 108 | Redding | CA | 95110-2330 | 138,000
Housing Authority of the County of Santa Clara | P.O. Box 496071 | Redding | CA | 95110-2330 | 207,000
Area Housing Authority of the County of Ventura | 5555 Arlington Avenue | Riverside | CA | 91320-2721 | 64,135
Housing Authority of the City of San Luis Obispo | 311 Vernon Street | Roseville | CA | 93401-4347 | 106,199
Housing Authority of the City of Los Angeles | 801 12th Street | Sacramento | CA | 90057-3400 | 755,480
Housing Authority of the City of Oakland | 801 12th Street | Sacramento | CA | 94612-3307 | 276,000
Housing Authority of the County of Santa Barbara | 123 Rico Street | Salinas | CA | 93436-6526 | 67,327
Sonoma County Community Development Commission | 715 East Brier Drive | San Bernardino | CA | 95403-4107 | 69,000
County of Shasta Housing Authority and Community Action | 1122 Broadway, Suite 300 | San Diego | CA | 96001-1661 | 29,659
Pomona Housing Authority | 3989 Ruffin Road | San Diego | CA | 91766-3220 | 69,000
Housing Authority of the County of Monterey | 505 West Julian Street | San Jose | CA | 93907-2157 | 138,000
Oxnard Housing Authority | 505 West Julian Street | San Jose | CA | 93030-5918 | 136,327
Garden Grove Housing Authority | 487 Leff Street | San Luis Obispo | CA | 92843-1371 | 69,000
Housing Authority of the County of Stanislaus | 4020 Civic Center Drive | San Rafael | CA | 95358-0033 | 134,056
City of Santa Monica Housing Authority | 1770 North Broadway | Santa Ana | CA | 90405-1080 | 65,286
Culver City Housing Authority | P.O. Box 22030 | Santa Ana | CA | 90232-0507 | 33,107
Housing Authority of the City of Redding | 808 Laguna Street | Santa Barbara | CA | 96049-6071 | 58,717
Regional Housing Authority of Sutter and Nevada Counties | 2931 Mission Street | Santa Cruz | CA | 95993-2701 | 107,436
Roseville Housing Authority | 1901 Main Street, Suite A | Santa Monica | CA | 95678-2649 | 66,213
Housing Authority of the County of Kings | 1440 Guerneville Road | Santa Rosa | CA | 93232-0355 | 57,234
Vallejo Housing Authority | 90 Santa Rosa Ave | Santa Rosa | CA | 94585-5930 | 68,680
Housing Authority of the County of Contra Costa | 448 S. Center Street | Stockton | CA | 94553-4000 | 138,000
Housing Authority of Alameda County | 40 Eldridge Avenue Suite 2 | Vacaville | CA | 94541-6633 | 276,000
San Diego Housing Commission | 40 Eldridge Ave. Suite 2 | Vacaville | CA | 92102-5629 | 408,798
Housing Authority of Fresno County | 200 Georgia St | Vallejo | CA | 93721-1630 | 65,604
Orange County Housing Authority | 995 Riverside St | Ventura | CA | 92706-2642 | 259,960
Housing Authority of the County of San Joaquin | 1455 Butte House Road | Yuba City | CA | 95203-3426 | 191,337
Boulder County Housing Authority | P.O. Box 471 | Boulder | CO | 80306-0471 | 193,740
Adams County Housing Authority | 7190 Colorado Blvd | Commerce City | CO | 80022-1812 | 49,484
Colorado Department of Local Affairs, Division of Housing | 1313 Sherman Street, Room 320 | Denver | CO | 80203-2288 | 65,000
Housing Authority of the City and County of Denver | 777 Grant Street | Denver | CO | 80203-3501 | 283,512
Housing Authority of the City of Englewood | 3460 S. Sherman, Suite 101 | Englewood | CO | 80113-0000 | 44,128
Fort Collins Housing Authority | 1715 West Mountain Avenue | Fort Collins | CO | 80521-2359 | 203,654
Housing Authority of the City of Grand Junction | 1011 North 10th St | Grand Junction | CO | 81501-3166 | 51,761
Housing Authority of the City of Pueblo | 201 S. Victoria | Pueblo | CO | 81003-3434 | 42,804
Ansonia Housing Authority | 36 Main Street | Ansonia | CT | 06401-0000 | 69,000
Bristol Housing Authority | 164 Jerome Avenue | Bristol | CT | 06010-0000 | 67,328
Housing Authority of the City of Derby Connecticut | 101 West Fourth Street | Derby | CT | 06418-1844 | 54,914
The Housing Authority of the Town of Greenwich | 249 Milbank Avenue | Greenwich | CT | 06830-6680 | 69,000
Connecticut Department of Housing | 505 Hudson Street | Hartford | CT | 06106-7107 | 206,040
Housing Authority of the City of Meriden | 22 Church St | Meriden | CT | 06451-0468 | 194,271
Housing Authority of the City of New Britain | 16 Armistice St | New Britain | CT | 06053-0000 | 138,000
Housing Authority of the City of Norwalk | 24 ½ Monroe St | Norwalk | CT | 06856-0508 | 138,000
Housing Authority of the City of Stamford | 22 Clinton Avenue | Stamford | CT | 06901-0000 | 67,815
Trout Brook Realty Advisors | 80 Shield Street | West Hartford | CT | 06110-1920 | 68,680
District of Columbia Housing Authority | 1133 North Capitol Street NE | Washington | DC | 20002-7599 | 276,000
Wilmington Housing Authority | 400 N Walnut Street | Wilmington | DE | 19801-1436 | 138,000
Tallahassee Housing Authority | 2333a West Glades Road | Boca Raton | FL | 32312-0000 | 52,346
Hialeah Housing Authority | 5631 11th Street East | Bradenton | FL | 33010-4845 | 112,644
Housing Authority of the City of Fort Myers | 908 Cleveland Street | Clearwater | FL | 33916-2310 | 160,828
Winter Haven Housing Authority | 36739 S.R.52 | Dade City | FL | 33880-0000 | 138,000
Orange County Housing and Community Development | 211 N. Ridgewood Avenue, Suite 300 | Daytona Beach | FL | 32801-2817 | 53,724
Pinellas County Housing Authority | 533 South Dixie Highway, Suite 201 | Deerfield Beach | FL | 33778-1147 | 133,539
Collier County Housing Authority | 63 Bopete Manor Road | Defuniak Springs | FL | 34142-5544 | 26,025
Sarasota Housing Authority | 437 SW 4th Avenue | Fort Lauderdale | FL | 34236-0000 | 34,600
Housing Authority of Lakeland | 4224 Renaissance Preserve Way | Fort Myers | FL | 33815-4502 | 105,738
Ocala Housing Authority | 75 East 6th Street | Hialeah | FL | 34475-0000 | 86,400
Palm Beach County Housing Authority | 1800 Farm Worker Way | Immokalee | FL | 33407-1844 | 126,633
Housing Authority of the City of Deerfield Beach | 1300 Broad Street | Jacksonville | FL | 33441-4665 | 47,232
Pasco County Housing Authority | 430 Hartsell Ave | Lakeland | FL | 33525-5101 | 32,749
Housing Authority of Pompano Beach | 11479 Ulmerton Road | Largo | FL | 33060-0000 | 46,107
Milton Housing Authority | 4780 North State Rd 7 | Lauderdale Lakes | FL | 32570-0000 | 69,000
Housing Authority of the City of Orlando | 701 NW 1st Court 16th Floor | Miami | FL | 32803-6026 | 24,000
Walton County Housing Agency | 5668 Byrom Street | Milton | FL | 32435-2943 | 30,000
Clearwater Housing Authority | 14170 Warner Circle | North Fort Myers | FL | 33755-4511 | 47,769
Manatee County Housing Authority | 1629 NW 4th Street | Ocala | FL | 34203-5978 | 31,310
Housing Authority of the City of Tampa | 390 N. Bumby Avenue | Orlando | FL | 33607-1727 | 424,887
Lee County Housing Authority | 525 E. South Street | Orlando | FL | 33903-3528 | 46,879
West Palm Beach Housing Authority | 465 Friend Terrace | Pahokee | FL | 33407-6284 | 127,534
Housing Authority of the City of Fort Lauderdale | 321 West Atlantic Boulevard | Pompano Beach | FL | 33315-1007 | 132,964
Pahokee Housing Authority | 340 Gulf Breeze Avenue | Punta Gorda | FL | 33476-1941 | 39,000
Miami Dade Public Housing and Community Development | 269 South Osprey Ave | Sarasota | FL | 33136-3914 | 218,120
Boca Raton Housing Authority | 2940 Grady Rd | Tallahassee | FL | 33431-7305 | 51,515
Jacksonville Housing Authority | 5301 W Cypress Street | Tampa | FL | 32202-3901 | 271,283
Punta Gorda Housing Authority | 3432 West 45th Street | West Palm Beach | FL | 33950-5634 | 26,513
The Housing Authority of the City of Daytona Beach | 1715 Division Avenue | West Palm Beach | FL | 32114-3243 | 86,563
Broward County Housing Authority | 2653 Avenue C. South West | Winter Haven | FL | 33319-5860 | 225,651
Housing Authority of the City of Albany | P.O. Box 485 | Albany | GA | 31702-0485 | 30,836
Housing Authority of Fulton County | 4273 Wendell Drive, SW | Atlanta | GA | 30336-1632 | 46,562
The Housing Authority of the City of Atlanta | 230 John Wesley Dobbs Avenue, N.E | Atlanta | GA | 30303-2421 | 249,000
Housing Authority of the City of Augusta | 1435 Walton Way | Augusta | GA | 30901-2609 | 150,695
Housing Authority of the City of Carrollton | 1 Roop Street | Carrollton | GA | 30117-4448 | 117,524
Housing Authority of the City of College Park | 2000 Princeton Avenue | College Park | GA | 30337-2412 | 133,068
The Housing Authority of Columbus | 1000 Wynnton Road, P.O. Box 630 | Columbus | GA | 31902-0630 | 92,254
Housing Authority of the City of East Point | 3056 Norman Berry Drive | East Point | GA | 30364-0363 | 69,000
Griffin Housing Authority | 518 Nine Oaks Drive | Griffin | GA | 30224-4169 | 69,000
Housing Authority of the City of Jonesboro | 203 Hightower Street, P.O. Box 458 | Jonesboro | GA | 302373647 | 84,711
Macon-Bibb County Housing Authority | 2015 Felton Avenue | Macon-Bibb | GA | 31201-4928 | 32,000
Housing Authority of the City of Marietta | 95 Cole Street | Marietta | GA | 30060-2090 | 113,764
Northwest Georgia Housing Authority | 800 North Fifth Avenue | Rome | GA | 30162-1428 | 87,386
Housing Authority of Savannah | P.O. Box 1179 | Savannah | GA | 31402-1179 | 198,000
Tri-City Housing Authority | 33 Martin Luther King Jr. Drive, P.O. Box 458 | Woodland | GA | 31836-0220 | 69,000
Guam Housing and Urban Renewal Authority | 117 Bien Venida Avenue | Sinajana | GU | 96910-3643 | 125,718
Hawaii County Housing Agency | 50 Wailuku Drive | Hilo | HI | 96720-4295 | 66,204
Hawaii Public Housing Authority | 1002 North School Street | Honolulu | HI | 96817-6912 | 132,031
Honolulu, City and County | Honolulu Hale | Honolulu | HI | 96813-9926 | 189,008
Kauai, County of; DBA Kauai County Housing Agency | 4444 Rice Street Suite 330 | Lihue | HI | 96766-1340 | 133,000
County of Maui | 35 Lunalilo Street, Suite 400 | Wailuku | HI | 96793-2523 | 24,732
Region XII Regional Housing Authority | 320 E. 7th, P.O. Box 663 | Carroll | IA | 51401-0663 | 45,000
City of Cedar Rapids | 101 First Street SE | Cedar Rapids | IA | 52401-1205 | 138,000
Municipal Housing Agency of Council Bluffs | 505 South 6th Street | Council Bluffs | IA | 51501-6405 | 24,338
Southern Iowa Regional Housing Authority | 219 N. Pine Street | Creston | IA | 50801-2413 | 43,850
City of Des Moines Municipal Housing Agency | 100 E Euclid Avenue Suite 101 | Des Moines | IA | 50313-4534 | 201,973
City of Dubuque | 350 West 6th Street Suite 312 | Dubuque | IA | 52001-4648 | 132,478
Eastern Iowa Regional Housing Authority | 7600 Commerce Park | Dubuque | IA | 52002-9673 | 204,746
Municipal Housing Agency of the City of Fort Dodge | 700 South 17th Street | Fort Dodge | IA | 50501-5300 | 102,766
Central Iowa Regional Housing Authority | 1201 SE Gateway Drive | Grimes | IA | 50111-6637 | 57,529
Iowa City Housing Authority | 410 E Washington Street | Iowa City | IA | 52240-1826 | 121,721
Muscatine, City of d/b/a Muscatine Municipal Housing Agency | 215 Sycamore St | Muscatine | IA | 52761-3839 | 55,309
City of Sioux City Housing Authority | 405 6th Street, Suite 107, P.O. Box 447 | Sioux City | IA | 51102-0447 | 138,000
Northeast Nebraska Joint Housing Agency | 1122 Pierce Street | Sioux City | IA | 51105-1077 | 40,756
Ada County Housing Authority | 1276 W River St. Suite #300 | Boise | ID | 83702-7066 | 111,708
Boise City Housing Authority | 1276 W River St. Suite #300 | Boise | ID | 83702-7066 | 111,710
Idaho Housing and Finance Association | P.O. Box 7899, 565 W Myrtle St | Boise | ID | 83707-1899 | 247,402
Southwestern Idaho Cooperative Housing Authority | 377 Cornell St | Middleton | ID | 83644-9903 | 89,114
Nampa Housing Authority | 211 19th Ave | Nampa | ID | 83687-4402 | 36,342
St. Clair County Housing Authority | 1790 S. 74th St | Belleville | IL | 62223-3363 | 34,500
Housing Authority of the City of Bloomington | 104 East Wood Street | Bloomington | IL | 61701-6768 | 51,782
Macoupin County Housing Authority | 760 Anderson Street, P.O. Box 226 | Carlinville | IL | 62626-1003 | 42,616
Marion County Housing Authority | 719 East Howard | Centralia | IL | 62801-2606 | 44,747
Chicago Housing Authority | 60 East Van Buren | Chicago | IL | 60605-1241 | 796,565
Housing Authority of Cook County | 175 W. Jackson Blvd., Suite 350 | Chicago | IL | 60604-3042 | 184,800
Madison County Housing Authority | 1609 Olive Street | Collinsville | IL | 62234-4909 | 69,000
Housing Authority of the City of East St. Louis | 700 North 20th Street | East St. Louis | IL | 62205-1814 | 69,000
Housing Authority of the City of Elgin | 120 S. State Street | Elgin | IL | 60123-0000 | 136,000
Housing Authority of the City of Freeport | 1052 West Galena | Freeport | IL | 61032-3814 | 69,000
Housing Authority of the County of Lake | 33928 N US Hwy 45 | Grayslake | IL | 60030-0000 | 222,561
Housing Authority of Joliet | 6 S. Broadway St | Joliet | IL | 60436-1735 | 63,898
Kankakee County Housing Authority | 185 N. St. Joseph Ave., P.O. Box 965 | Kankakee | IL | 60901-0965 | 43,280
Housing Authority of Henry County | 125 N. Chestnut Street | Kewanee | IL | 61443-0125 | 91,977
Peoria Housing Authority | 100 S Richard Pryor Place | Peoria | IL | 61605-3905 | 98,210
Menard County Housing Authority | 101 West Sheridan Rd., P.O. Box 168 | Petersburg | IL | 62675-1349 | 29,160
Rock Island Housing Authority | 227 21st St | Rock Island | IL | 61201-8819 | 65,000
Rockford Housing Authority | 223 South Winnebago Street | Rockford | IL | 61102-9904 | 200,961
Winnebago County Housing Authority | 3617 Delaware Street | Rockford | IL | 61102-1506 | 132,936
Springfield Housing Authority | 200 North Eleventh Street | Springfield | IL | 62703-1004 | 236,000
Waukegan Housing Authority | 215 South Martin Luther King Jr. Avenue | Waukegan | IL | 60085-5522 | 50,819
DuPage Housing Authority | 711 E. Roosevelt Rd | Wheaton | IL | 60187-5646 | 114,114
Housing Authority of the City of Bloomington | 1007 North Summit Street | Bloomington | IN | 47404-3712 | 91,953
Housing Authority of the City of Columbus, Indiana | 799 McClure Road | Columbus | IN | 47201-6610 | 40,377
Housing Authority, City of Elkhart | 1396 Benham Ave | Elkhart | IN | 46516-3341 | 86,540
The Housing Authority of the City of Evansville | 402 Court Street, Suite B | Evansville | IN | 47708-0000 | 116,690
Fort Wayne Housing Authority | 7315 Hanna Street | Fort Wayne | IN | 46816-0000 | 120,000
Housing Authority of the City of Gary | 578 Broadway | Gary | IN | 46402-0000 | 50,900
Housing Authority of the City of Hammond | 1402 173rd Street | Hammond | IN | 46324-2861 | 59,418
Indianapolis Housing Agency (IHA) | 1919 North Meridian Street | Indianapolis | IN | 46202-1303 | 281,829
Housing Authority of the City of Kokomo | 210 East Taylor Street, P.O. Box 1207 | Kokomo | IN | 46903-1207 | 45,000
Marion Housing Authority | 601 S. Adams St | Marion | IN | 46953-0000 | 69,000
The Housing Authority of the City of Michigan City | 621 E. Michigan Blvd | Michigan City | IN | 46360-2664 | 21,947
New Albany Housing Authority | P.O. Box 11 | New Albany | IN | 47150-0000 | 162,965
Housing Authority of City of Peru | 701 E Main Street | Peru | IN | 46970-2640 | 31,931
Housing Authority of South Bend | 501 Alonzo Watson Drive | South Bend | IN | 46601-3715 | 36,748
Housing Authority of the City of Terre Haute | P.O. Box 3086 | Terre Haute | IN | 47803-0086 | 100,000
Housing Authority of Vincennes | 501 Hart Street, P.O. Box 1636 | Vincennes | IN | 47591-2103 | 43,635
NEKCAP, Inc | 1260 220th Street, P.O. Box 380 | Hiawatha | KS | 66434-0380 | 50,500
Lawrence-Douglas County Housing Authority | 1600 Haskell Avenue | Lawrence | KS | 66044-4399 | 238,461
Johnson County, Kansas | 12425 W. 87th Street, Suite 200 | Lenexa | KS | 66215-4524 | 62,736
City of Olathe | 200 W. Santa Fe Street, P.O. Box 768 | Olathe | KS | 66051-0768 | 54,278
Salina Housing Authority | P.O. Box 1202, 469 S. 5th Street | Salina | KS | 67401-1202 | 60,000
Topeka Housing Authority | 2010 SE California Ave | Topeka | KS | 66607-1444 | 43,580
City of Wichita Kansas Housing Authority | 332 N. Riverview | Wichita | KS | 67203-4245 | 176,384
Barbourville Urban Renewal & Community Development Agency | 338 Court Square, P.O. Box 806 | Barbourville | KY | 40906-0806 | 32,703
Cumberland Valley Regional Housing Authority | 338 Court Square, P.O. Box 806 | Barbourville | KY | 40906-0806 | 86,125
Housing Authority of Bowling Green | 247 Double Springs Road | Bowling Green | KY | 42101-5160 | 47,740
Boone County Fiscal Court Assisted Housing Department | 2950 Washington Square, P.O. Box 536 | Burlington | KY | 41005-0536 | 65,558
City of Covington CDA | 2300 Madison Avenue, 2nd floor | Covington | KY | 41014-1237 | 51,005
Housing Authority of Covington | 2300 Madison Avenue | Covington | KY | 41014-1237 | 69,000
City of Cynthiana (Housing Authority of Cynthiana) | 148 Federal Street | Cynthiana | KY | 41031-1420 | 63,291
Housing Authority of Frankfort | 590 Walter Todd Drive | Frankfort | KY | 40601-2026 | 48,728
Kentucky Housing Corporation | 1231 Louisville Road | Frankfort | KY | 40601-6156 | 102,633
Georgetown Housing Authority | 139 Scroggin Park | Georgetown | KY | 40324-2039 | 45,908
Housing Authority of Glasgow | 111 Bunche Ave., P.O. Box 1745 | Glasgow | KY | 42142-1745 | 42,904
Housing Authority of Floyd County | 402 John M. Stumbo Drive | Langley | KY | 41645-9708 | 69,000
Lexington-Fayette Urban County Housing Authority | 300 W. New Circle Road | Lexington | KY | 40505-1428 | 104,029
Louisville Metro Housing Authority | 420 South Eighth Street | Louisville | KY | 40203-1906 | 455,604
Housing Authority of Newport, KY | 30 East 8th Street | Newport | KY | 41071-0459 | 34,500
City of Richmond Section 8 Housing | P.O. Box 250 | Richmond | KY | 40476-0250 | 100,000
Housing Authority of Somerset | P.O. Box 449 | Somerset | KY | 42502-0449 | 41,981
Appalachian Foothills Housing Agency Inc | 1214 Riverside Boulevard | Wurtland | KY | 41144-1635 | 43,834
Terrebonne Parish Consolidated Government | 809 Barrow Street | Houma | LA | 70630-0000 | 43,478
Calcasieu Parish Police Jury Human Services Housing Department | 2001 Moeling Street | Lake Charles | LA | 70601-0000 | 46,020
St. James Parish Housing Authority | 2627 King Ave., P.O. Box 280 | Lutcher | LA | 70071-0280 | 69,000
Housing Authority of Jefferson Parish | 1718 Betty Street | Marrero | LA | 70072-3318 | 131,167
Housing Authority of the City of Shreveport | 2500 Line Avenue | Shreveport | LA | 71104-3022 | 88,440
Acton Housing Authority | 68 Windsor Ave | Acton | MA | 01720-0681 | 58,000
Attleboro Housing Authority | 80 South Avenue | Attleboro | MA | 02703-4581 | 54,091
Boston Housing Authority | 52 Chauncey Street | Boston | MA | 02111-2325 | 275,040
Commonwealth of Massachusetts | 100 Cambridge Street | Boston | MA | 02114-2531 | 730,429
Braintree Housing Authority | 25 Roosevelt Street | Braintree | MA | 02184-8663 | 53,694
Brockton Housing Authority | 54 Goddard Road | Brockton | MA | 02303-7070 | 137,680
Chelmsford Housing Authority | 10 Wilson Street | Chelmsford | MA | 01824-3160 | 63,356
Chelsea Housing Authority | 54 Locke Street | Chelsea | MA | 02150-2250 | 133,909
Fall River Housing Authority | 85 Morgan St | Fall River | MA | 02722-0000 | 136,327
Framingham Housing Authority | 1 John J. Brady Drive | Framingham | MA | 01702-2307 | 66,970
Gloucester Housing Authority | P.O. Box 1599 | Gloucester | MA | 01931-1599 | 42,953
Greenfield Housing Authority | 1 Elm Terrace | Greenfield | MA | 01301-2203 | 63,159
Hingham Housing Authority | 30 Thaxter Street | Hingham | MA | 02043-2143 | 66,199
Holyoke Housing Authority | 475 Maple Street, Suite One | Holyoke | MA | 01040- | 96,424
Leominster Housing Authority | 100 Main Street | Leominster | MA | 01453-5599 | 48,250
Lowell Housing Authority | P.O. Box 60 | Lowell | MA | 01853-0060 | 65,558
Lynn Housing Authority & Neighborhood Development | 10 Church Street | Lynn | MA | 01902-4418 | 113,713
Malden Housing Authority | 630 Salem Street | Malden | MA | 02148-4361 | 124,468
Medford Housing Authority | 121 Riverside Avenue | Medford | MA | 02155-4611 | 69,000
Melrose Housing Authority | 910 Main Street | Melrose | MA | 02176-2331 | 54,010
Methuen Housing Authority | 24 Mystic St | Methuen | MA | 01844-2499 | 55,668
Milton Housing Authority | 65 Miller Avenue | Milton | MA | 02186-4756 | 66,660
North Andover Housing Authority | One Morkeski Meadows | North Andover | MA | 01845-3954 | 57,857
Plymouth Housing Authority | P.O. Box 3537 | Plymouth | MA | 02361-3537 | 46,363
Quincy Housing Authority | 80 Clay Street | Quincy | MA | 02170-2799 | 69,000
Revere Housing Authority | 70 Cooledge St | Revere | MA | 02151-2963 | 66,600
Somerville Housing Authority | 30 Memorial Road | Somerville | MA | 02145-1704 | 131,392
Taunton Housing Authority | 30 Olney Street, Suite B | Taunton | MA | 02780-4141 | 61,248
Wayland Housing Authority | 106 Main Street | Wayland | MA | 01778-4939 | 18,200
Winchester | 13 Westley Street | Winchester | MA | 01890-2130 | 69,000
Worcester Housing Authority | 40 Belmont Street | Worcester | MA | 01605-2665 | 336,300
Housing Authority of Baltimore City | 417 E. Fayette Street, Room 923 | Baltimore | MD | 21202-3431 | 482,040
Housing Authority of Washington County | 6401 York Road | Baltimore | MD | 21740-5701 | 31,310
Eric C. Brown | 15 South Main Street, Suite 106 | Bel Air | MD | 20774-5358 | 138,000
Havre De Grace Housing Authority | 6751 Columbia Gateway Dr. Gateway | Columbia | MD | 21078-3011 | 69,000
Howard County Housing Commission | 200 Chesapeake Blvd, Suite 1800 | Elkton | MD | 21046-2164 | 61,059
Housing Authority of St. Mary's County, Maryland | 319 E. Antietam Street 2nd Floor | Hagerstown | MD | 20653-9998 | 45,048
Housing Opportunities Commission of Montgomery County, MD | 35 W. Baltimore Street | Hagerstown | MD | 20895-2484 | 483,000
Hagerstown Housing Authority | 101 Stansbury Court | Havre De Grace | MD | 21740-6059 | 150,784
Commissioners of Carroll County | 10400 Detrick Avenue | Kensington | MD | 21157-5194 | 54,078
Cecil County Housing Agency | 7800 Harkins Road | Lanham | MD | 21921-6682 | 52,034
Maryland Department of Housing and Community Development | 9200 Basil Court Suite 500 | Largo | MD | 20706-1333 | 37,901
Rockville Housing Enterprises | 21155 Lexwood Drive, Suite C | Lexington Park | MD | 20850-1456 | 56,930
Baltimore, County of | 621-A Southlawn Lane | Rockville | MD | 21212-2121 | 208,475
Harford County, Maryland | 225 North Center Street | Westminster | MD | 21014-8725 | 28,118
Augusta Housing | 33 Union Street, Suite #3 | Augusta | ME | 04330-6800 | 32,484
Maine State Housing Authority | 353 Water St | Augusta | ME | 04330-4678 | 54,031
Bangor Housing Authority | 161 Davis Rd | Bangor | ME | 04401-2310 | 57,050
Housing Authority of the City of Brewer | 15 Colonial Circle, Suite 1 | Brewer | ME | 04412-1448 | 52,832
City of Caribou | 25 High St | Caribou | ME | 04736-0025 | 48,729
Lewiston Housing Authority | 1 College St | Lewiston | ME | 04240-7118 | 57,820
Housing Authority of City of Old Town | P.O. Box 404 | Old Town | ME | 04468-0404 | 23,972
Portland Housing Authority | 14 Baxter Boulevard | Portland | ME | 04101-1822 | 72,012
Westbrook Housing Authority | 30 Liza Harmon Drive | Westbrook | ME | 04092-3438 | 40,607
Lansing Housing Commission | 727 Miller Avenue | Ann Arbor | MI | 48933-1136 | 69,000
Detroit Housing Commission | 1301 East Jefferson | Detroit | MI | 48207-3148 | 296,700
Wyoming Housing Commission | 1420 Fuller Ave SE | Grand Rapids | MI | 49519-6111 | 137,680
Traverse City Housing Commission | 419 Cherry Street | Lansing | MI | 49684-2478 | 66,970
Plymouth Housing Commission | 1160 Sheridan Street | Plymouth | MI | 48170-1560 | 133,413
Grand Rapids Housing Commission | 735 East Michigan Avenue | P.O. Box 30044 | MI | 49507-2139 | 331,000
Pontiac Housing Commission | 132 Franklin Blvd | Pontiac | MI | 48341-0000 | 69,000
Saginaw Housing Commission | 1803 Norman St | Saginaw | MI | 48601-3225 | 136,031
Westland Housing Commission | 150 Pine Street | Traverse City | MI | 48186-4755 | 33,069
Ann Arbor Housing Commission | 32150 Dorsey Road | Westland | MI | 48103-3353 | 138,000
Michigan State Housing Development Authority | 2450 36th St SW | Wyoming | MI | 48909-1474 | 966,000
Brainerd, City of | 324 East River Rd | Brainerd | MN | 56401-3504 | 59,000
Housing & Redevelopment Authority of Clay County | 116 Center Ave E., P.O. Box 99 | Dilworth | MN | 56529-0099 | 65,746
Housing and Redevelopment Authority of Duluth, MN | 222 East Second Street, P.O. Box 16900 | Duluth | MN | 55816-0900 | 65,543
Dakota County Community Development Agency | 1228 Town Centre Drive | Eagan | MN | 55123-1066 | 24,876
Mankato Economic Development Authority | 10 Civic Center Plaza, P.O. Box 3368 | Mankato | MN | 56002-3368 | 53,075
South Central MN Multi County HRA | 422 Belgrade Avenue, Suite 102 | North Mankato | MN | 56003-3874 | 38,806
Scott County Community Development Agency | 323 S. Naumkeag Street | Shakopee | MN | 55379-1652 | 22,500
Housing Authority of St. Louis Park | 5005 Minnetonka Blvd | St. Louis Park | MN | 55416-2216 | 38,391
Public Housing Agency of the City of St. Paul | 555 North Wabasha Street, Suite 400 | St. Paul | MN | 55102-1602 | 68,680
Housing & Redevelopment Authority of Virginia, MN | 442 Pine Mill Court, P.O. Box 1146 | Virginia | MN | 55792-3097 | 58,713
Southeastern Minnesota Multi-County HRA | 134 East Second Street | Wabasha | MN | 55981-1440 | 36,424
Washington County Housing and Redevelopment Authority | 7645 Currell Blvd | Woodbury | MN | 55125-2256 | 46,497
Housing Authority of St. Louis County | 106 W. Fourth | Appleton City | MO | 63121-0000 | 119,589
Franklin County Public Housing Agency | 201 S. Witzler St | Columbia | MO | 63050-0920 | 86,840
Housing Authority of the City of Liberty | P.O. Box 920 | Hillsboro | MO | 64068-2372 | 44,645
Housing Authority of the City of Columbia | 302 South Joplin Avenue | Joplin | MO | 65203-0000 | 103,675
St. Louis Housing Authority | 920 Main, Suite 701 | Kansas City | MO | 63106-1417 | 129,481
Housing Authority of Saint Charles | 17 East Kansas | Liberty | MO | 63301-4711 | 110,548
Phelps County Public Housing Agency | 403 Parkway Drive | Park Hills | MO | 65559-9998 | 53,932
Economic Security Corporation of Southwest Area | 3019 Fair Street | Poplar Bluff | MO | 64801-2354 | 42,500
St. Francois County Public Housing Agency | 1041 Olive Street | Saint Charles | MO | 63601-0308 | 31,530
Housing Authority of Kansas City, Missouri | 421 W. Madison | Springfield | MO | 64105-2017 | 360,798
Ripley County Public Housing Agency | #4 Industrial Drive | St. James | MO | 63901-7044 | 34,213
Housing Authority of the City of Springfield | 3520 Page Boulevard | St. Louis | MO | 65806-2999 | 26,825
St. Clair County PHA | P.O. Box 23886 | St. Louis | MO | 64724-1402 | 194,272
The Housing Authority of the City of Biloxi | 330 Benachi Avenue, P.O. Box 447 | Biloxi | MS | 39533-0447 | 34,500
Tennessee Valley Regional Housing Authority | P.O. Box 1329 | Corinth | MS | 38835-1329 | 176,640
Mississippi Regional Housing Authority VIII | 10430 Three Rivers Road | Gulfport | MS | 39501-5914 | 105,850
Mississippi Regional Housing Authority, No. VII | 2180 Terry Road, P.O. Box 8746 | Jackson | MS | 39284-8746 | 121,965
The Housing Authority of the City of Jackson, MS | 2747 Livingston Road | Jackson | MS | 39213-692839213 | 55,636
South Delta Regional Housing Authority | 202 Weston Ave | Leland | MS | 38756-0955 | 106,500
Mississippi Regional Housing Authority, No. VI | P.O. Box 748 | McComb | MS | 39649-0000 | 198,909
The Housing Authority of the City of Meridian | 2425 E. Street | Meridian | MS | 39302-0870 | 110,844
Mississippi Regional Housing Authority No. II | 900 Molly Barr Road | Oxford | MS | 38655-2106 | 30,000
Housing Authority of Billings | 2415 1st Avenue North | Billings | MT | 59101-2318 | 41,049
Missoula Housing Authority | 1235 34th Street | Missoula | MT | 59801-8521 | 203,654
Mountain Projects, Inc | 165 South French Broad Avenue | Asheville | NC | 28786-7759 | 33,604
Coastal Community Action, Inc | 869 Highway 105 Extension, Suite 10, P.O. Box 2510 | Boone | NC | 28570-0729 | 37,301
Housing Authority of the City of Wilson, N.C | 133 North Ireland Street | Burlington | NC | 27893-4130 | 59,500
Economic Improvement Council, Inc | 400 East Blvd | Charlotte | NC | 27932-0549 | 44,167
Gastonia Housing Authority | 13450 U. S. Hwy 64 W., P.O. Box 571 | Chatham | NC | 28053-2398 | 44,000
Western Piedmont Council of Governments | 283 Harold Goodman Circle, P.O. Box 8746 | Concord | NC | 28603-9026 | 69,000
Housing Authority of the City of Wilmington | 330 East Main Street | Durham | NC | 28401-0899 | 115,273
Roxboro Housing Authority | 206 S. Long Street | East Spencer | NC | 27573-4795 | 65,000
Statesville Housing Authority | 712 Virginia Road | Edenton | NC | 28677-6616 | 175,419
Housing Authority of the City of Salisbury, NC | 340 W. Long Ave, P.O. Box 2398 | Gastonia | NC | 28145-0159 | 69,000
Isothermal Planning and Development Commission | 450 N. Church Street | Greensboro | NC | 28139-0841 | 35,744
Housing Authority of the City of Asheville | 1103 Broad Street | Greenville | NC | 28801-3999 | 124,000
Burlington Housing Authority | 220 King Creek Blvd., P.O. Box 685 | Hendersonville | NC | 27217-2635 | 58,486
East Spencer Housing Authority | 1880 2nd Av NW, P.O. Box 9026 | Hickory | NC | 28039-0367 | 44,200
The Housing Authority of the City of Durham | 841 S. Center Street | Hickory | NC | 27701-3718 | 206,680
Twin Rivers Opportunities, Inc | 500 East Russell Avenue | High Point | NC | 28560/1482 | 67,209
Thomasville Housing Authority | 246 Georgetown Rd | Jacksonville | NC | 27360-2426 | 32,000
Sandhills Community Action Program, Inc | 608 N Queen St | Kinston | NC | 28387-7168 | 38,000
Housing Authority of the City of Kinston | Post Office Box 1437 | Laurinburg | NC | 28501-0697 | 95,420
Housing Authority of the City of Winston-Salem | 1 Jamaica Dr | Lexington | NC | 27101-2782 | 57,000
Rowan County Housing Authority | 318 Craven St | New Bern | NC | 28147-8200 | 90,900
North Wilkesboro Housing Authority | 303 McQueen Avenue, P.O. Box 729 | Newport | NC | 286593521 | 55,000
Housing Authority of the City of Greenville | 101 Hickory Street | North Wilkesboro | NC | 27834-3952 | 160,421
Housing Authority of the Town of Laurinburg | 500 Mt. Bethel Church Street, P.O. Box 996 | Roxboro | NC | 28353-1437 | 47,167
Western Carolina Community Action | 111 West Court Street, P.O. Box 841 | Rutherfordton | NC | 28793-0685 | 61,705
City of Hickory Public Housing Authority | 310 Long Meadow Drive | Salisbury | NC | 28602-0000 | 50,073
Housing Authority of the City of Charlotte | 200 S. Martin Luther King Jr. Ave | Salisbury | NC | 28203-5584 | 113,233
Housing Authority of the City of Greensboro | 1000 Carthage Street | Sanford | NC | 27401-2001 | 282,785
Mid-East Regional Housing Authority | 340 Commerce Avenue, Suite 20 | Southern Pines | NC | 27892-9764 | 40,902
Sanford Housing Authority | 110 W. Allison Street | Statesville | NC | 27330-4115 | 100,839
Washington Housing Authority | 201 James Avenue | Thomasville | NC | 27889-3824 | 40,667
City of Concord Housing Department | 809 Pennsylvania Avenue, P.O. Box 1046 | Washington | NC | 28026-0308 | 43,360
Chatham County Housing Authority | 2251 Old Balsam Road | Waynesville | NC | 27344-6443 | 48,636
Lexington Housing Authority | 415 East Boulevard, Suite 140, P.O. Box 811 | Williamston | NC | 27292-0000 | 58,054
Eastern Carolina Human Services Agency Inc | 1524 S. 16th Street | Wilmington | NC | 28541-0796 | 66,799
Housing Authority of the City of High Point | 301 Nash St E | Wilson | NC | 27260-6746 | 153,727
Northwestern Regional Housing Authority | 500 West Fourth Street, Suite 300 | Winston-Salem | NC | 28607-4958 | 206,884
Fargo Housing and Redevelopment Authority | 325 Broadway | Fargo | ND | 58102-0430 | 106,608
the Housing Authority of the City of Grand Forks | 1405 1st Ave North | Grand Forks | ND | 582033484 | 104,385
Minot Housing Authority | 108 Burdick Express Way East | Minot | ND | 58701-4434 | 43,612
Kearney Housing Authority | 2715 I Ave, P.O. Box 1236 | Kearney | NE | 68848-1236 | 84,908
Housing Authority of the City of Lincoln | 5700 R Street | Lincoln | NE | 68505-2332 | 112,808
Douglas County Housing Authority | 5404 N. 107th Plaza | Omaha | NE | 68134-0000 | 51,510
Housing Authority of the City of Omaha | 1805 Harney Street | Omaha | NE | 68102-1908 | 186,161
Goldenrod Regional Housing Agency | 1017 Avenue E, P.O. Box 799 | Wisner | NE | 68791-0799 | 36,421
New Hampshire Housing Finance Authority | 32 Constitution Drive | Bedford | NH | 03110-6062 | 234,031
Dover Housing Authority | 62 Whittier Street | Dover | NH | 03820-2946 | 138,000
Keene Housing | 831 Court Street | Keene | NH | 03431-1712 | 131,198
Manchester Housing and Redevelopment Authority | 198 Hanover Street | Manchester | NH | 03104-6125 | 44,997
Atlantic City Housing Authority & Urban Redevelopment Agency | 227 North Vermont Avenue, 17th Floor | Atlantic City | NJ | 08401-5563 | 58,065
Housing Authority of the Town of Boonton | 125 Chestnut Street | Boonton | NJ | 07005-1130 | 69,000
Housing Authority of the City of Camden | 2021 Watson Street, 2nd Floor | Camden | NJ | 08105-1866 | 46,683
Housing Authority of Gloucester County | 100 Pop Moylan Blvd | Deptford | NJ | 08096-1947 | 43,400
Housing Authority Town of Dover | 215 East Blackwell Street | Dover | NJ | 07801-0000 | 31,777
Housing Authority of the City of East Orange | 160 Halsted Street | East Orange | NJ | 070182693 | 69,000
Housing Authority of the Borough of Fort Lee | 1403 Teresa Drive, Suite FLHA | Fort Lee | NJ | 07024-2102 | 51,000
County of Monmouth | 3000 Kozloski Road | Freehold | NJ | 07728-9969 | 69,000
Irvington Housing Authority | 624 Nye Avenue | Irvington | NJ | 071112323 | 68,680
Housing Authority of City of Jersey City | 400 US Highway #1 | Jersey City | NJ | 07306-6545 | 243,635
Lakewood Housing Authority | 317 Sampson Avenue | Lakewood | NJ | 08701-3565 | 66,214
Lakewood TWP Residential Assistance Program | 600 W. Kennedy Blvd | Lakewood | NJ | 08701-1243 | 51,140
Housing Authority of the Borough of Madison | 24 Central Avenue | Madison | NJ | 079401811 | 69,000
Housing Authority County of Morris | 99 Ketch Road | Morristown | NJ | 07960-2606 | 68,587
The Newark Housing Authority | 500 Broad S., 2nd Flr | Newark | NJ | 07102-3112 | 134,897
Housing Authority of the City of Orange | 340 Thomas Boulevard | Orange | NJ | 07050-4151 | 68,000
Passaic County Public Housing Agency | 100 Hamilton Plaza Suite 510 | Paterson | NJ | 07505-2100 | 123,244
Housing Authority of the City of Perth Amboy | P.O. Box 390 | Perth Amboy | NJ | 08862-0390 | 191,458
The Housing Authority of Plainfield | 510 East Front Street | Plainfield | NJ | 07060-1449 | 69,000
Pleasantville Housing Authority | 168 North Main Street | Pleasantville | NJ | 08232-2569 | 137,680
NJ Department of Community Affairs | 101 S. Broad Street, P.O. Box 051 | Trenton | NJ | 08625-0051 | 207,000
Housing Authority of the City of Vineland | 191 West Chester Avenue | Vineland | NJ | 08360-5417 | 69,000
Woodbridge Housing Authority | 20 Bunns Lane | Woodbridge | NJ | 07067-1765 | 22,286
Bernalillo County Housing Department | 1900 Bridge Blvd SW | Albuquerque | NM | 87105-3164 | 118,368
Clovis Housing and Redevelopment Agency, Inc | 2101 W Grand Avenue | Clovis | NM | 88101-3315 | 86,644
Mesilla Valley Public Housing Authority | 926 S San Pedro Street | Las Cruces | NM | 88001-3637 | 26,322
Eastern Regional Housing Authority | P.O. Drawer 2057 | Roswell | NM | 88202-2057 | 138,000
Santa Fe Civic Housing Authority | 664 Alta Vista Street | Santa Fe | NM | 87505-4149 | 62,275
Santa Fe County Housing Authority | 52 Camino De Jacobo | Santa Fe | NM | 875073546 | 46,984
Housing Authority of the City of Truth or Consequences | 108 S. Cedar | Truth or Consequences | NM | 87901-2881 | 45,325
Southern Nevada Regional Housing Authority | 340 North 11th Street | Las Vegas | NV | 89101-3162 | 697,609
Ithaca Housing Authority | 200 South Pearl Street | Albany | NY | 14850-5347 | 137,360
Town of Huntington Housing Authority | 38-40 State Street | Albany | NY | 11746-1223 | 68,680
Town of Smithtown | 52 Division Street | Amsterdam | NY | 11787-0575 | 24,853
City of North Tonawanda, Belmont Housing Resources, Agent | 1195 Main Street | Buffalo | NY | 14209-2196 | 48,583
Geneva Housing Authority | 300 Perry Street | Buffalo | NY | 14456-1718 | 65,642
Town of Colonie | 1195 Main Street | Buffalo | NY | 12866-4111 | 52,602
Town of Guilderland | 470 Franklin Street | Buffalo | NY | 12866-4111 | 65,038
Cohoes Housing Authority | One Independence Hill | Farmingville | NY | 12866-4111 | 34,212
Village of Highland Falls | 41 Lewis St., P.O. Box 153 | Geneva | NY | 12866-4111 | 32,969
Buffalo Municipal Housing Authority | 1a Lowndes Avenue | Huntington Housing Authority | NY | 14204-2270 | 34,500
Town of Brookhaven | 800 S. Plain St. | Ithaca | NY | 11738-0362 | 58,273
Village of Kiryas Joel Housing Authority | 301 Michigan St | Lockport | NY | 109502938 | 66,200
Municipal Housing Authority of the City of Schenectady | 51 Forest Road Suite 360 | Monroe | NY | 12305-2595 | 105,029
New York City Housing Authority | 76 Evergreen Drive | Monticello | NY | 10007-2599 | 207,000
Mechanicville Housing Authority | 281 Phelps Lane | N. Babylon | NY | 12866-4111 | 66,479
Albany Housing Authority | 100 Gold Street | New York | NY | 12202-0000 | 206,360
Syracuse Housing Authority | 250 Broadway | New York | NY | 13202-3934 | 206,040
Municipal Housing Authority of the City of Utica, New York | 963 Montauk Highway | Oakdale | NY | 13501-2540 | 69,000
Town of Islip Housing Authority | 20 West Oneida Street, Third Floor | Oswego | NY | 11769-1433 | 51,000
New York City Dept. of Housing Preservation & Development | 675 West Main Street | Rochester | NY | 10038 1605 | 1,373,600
City of Johnstown | 11 Federal Street | Saratoga Springs | NY | 12866-4111 | 32,969
City of Lockport Housing Authority Inc | 11 Federal Street | Saratoga Springs | NY | 14094-1724 | 68,000
City of Utica Section 8 Program | 11 Federal Street | Saratoga Springs | NY | 13502-4236 | 46,000
Monticello Housing Authority | 11 Federal Street | Saratoga Springs | NY | 12701-0000 | 74,839
NYS Housing Trust Fund Corp | 11 Federal Street | Saratoga Springs | NY | 12207-2837 | 1,224,755
Rental Assistance Corporation of Buffalo | 11 Federal Street | Saratoga Springs | NY | 14202-1375 | 98,697
Rotterdam FSS | 11 Federal Street | Saratoga Springs | NY | 12866-4111 | 54,797
Town of Babylon Housing Assistance Agency | 11 Federal Street | Saratoga Springs | NY | 11703-4006 | 49,599
Troy Housing Authority | 11 Federal Street | Saratoga Springs | NY | 12180-1423 | 130,955
Village of Ballston Spa | 11 Federal Street | Saratoga Springs | NY | 12866-4111 | 41,623
Village of Fort Plain | 11 Federal Street | Saratoga Springs | NY | 12866-4111 | 65,938
Erie County PHA Consortium, Town of Amherst, Belmont Housing | 375 Broadway | Schenectady | NY | 14209-2196 | 147,097
City of Oswego Community Development Office | P.O. Box 575 | Smithtown | NY | 13126-2574 | 34,500
Rochester Housing Authority | 516 Burt Street | Syracuse, | NY | 14611-2313 | 175,814
Amsterdam Housing Authority | One Eddy's Lane | Troy | NY | 12010-4002 | 101,435
Gloversville Housing Authority | 509 Second Street, Suite One | Utica | NY | 12866-4111 | 74,199
Village of Scotia | 1 Kennedy Plaza | Utica | NY | 12866-4111 | 28,779
Trumbull Metropolitan Housing Authority | 100 West Cedar Street | Akron | OH | 44484-3397 | 116,290
Clinton Metropolitan Housing Authority | 10 Hope Drive | Athens | OH | 45177-1222 | 50,225
Parma Public Housing Agency | 116 North Everett Street | Bellefontaine | OH | 44134-2775 | 41,212
Allen Metropolitan Housing Authority | 1100 Maple Court | Cambridge | OH | 45804-1242 | 39,501
Portage Metropolitan Housing Authority | 385 Center St | Chardon | OH | 44266-1650 | 38,462
Geauga Metropolitan Housing Authority | 178 West Fourth Street | Chillicothe | OH | 44024-1155 | 122,654
Columbus Metropolitan Housing Authority | 1627 Western Avenue | Cincinnati | OH | 43211-2771 | 143,439
Morgan Metropolitan Housing Authority | 176 Rustic Dr | Circleville | OH | 43756-9701 | 46,264
Lucas Metropolitan Housing Authority | 8120 Kinsman Road | Cleveland | OH | 43697-0477 | 236,365
Wayne Metropolitan Housing Authority | 880 E. 11th Avenue | Columbus | OH | 44691/3566 | 43,528
Youngstown Metropolitan Housing Authority | 400 Wayne Avenue | Dayton | OH | 44503-1399 | 241,611
Delaware Metropolitan Housing Authority | 222 Curtis St (Rear) | Delaware | OH | 43015-2595 | 34,500
Logan County Metropolitan Housing Authority | 315 N. Columbus St | Lancaster | OH | 43311-1132 | 37,903
Pickaway Metro Housing Authority | 600 S. Main St | Lima | OH | 43113-1576 | 23,500
Lorain Metropolitan Housing Authority | 1600 Kansas Avenue | Lorain | OH | 44052-3317 | 111,120
Cuyahoga Metropolitan Housing Authority | 401 East Seventh Street | Manchester | OH | 44104-4310 | 213,277
The City of Marietta, Ohio/PHA | 301 Putnam Street | Marietta | OH | 45750 | 44,222
Vinton Metropolitan Housing Authority | 310 West High Street, P.O. Box 487 | McArthur | OH | 45651-0487 | 38,728
Fairfield Metropolitan Housing Authority | 4580 N St Rt. 376 NW | McConnelsville | OH | 43130-1619 | 109,225
Adams Metropolitan Housing Authority | 441 General Hartinger Parkway | Middleport | OH | 45144-1401 | 40,000
Morrow Metropolitan Housing Authority | 619 West Marion Road, Suite 107 | Mount Gilead | OH | 43338-1097 | 37,589
Tuscarawas Metropolitan Housing Authority | 201a West High Street | Mount Vernon | OH | 44663-3861 | 50,000
Cambridge Metropolitan Housing Authority | 134 Second Street SW | New Philadelphia | OH | 43725-6388 | 32,900
Springfield Metropolitan Housing Authority | 189 First Street | Painesville | OH | 45502-1219 | 69,000
Meigs Metropolitan Housing Authority | 1440 Rockside Road Suite 306 | Parma | OH | 45760-1251 | 14,608
Lake Metropolitan Housing Authority | 2832 State Route 59 | Ravenna | OH | 44077-3111 | 57,000
Chillicothe Metropolitan Housing Authority | 322 Warren Street | Sandusky | OH | 45601-3219 | 95,572
Athens Metropolitan Housing Authority | 101 West High St | Springfield | OH | 45701-2136 | 41,276
Jefferson Metropolitan Housing Authority | 815 North Sixth Avenue | Steubenville | OH | 43952-1861 | 49,999
Akron Metropolitan Housing Authority | 435 Nebraska | Toledo | OH | 44307-2502 | 312,696
Zanesville Metropolitan Housing Authority | 4076 Youngstown Road, Se, Suite 101 | Warren | OH | 43701-6871 | 210,794
Knox Metropolitan Housing Authority | 249 West 13th Street, P.O. Box 619 | Wellston | OH | 43050-2427 | 23,122
Cincinnati Metropolitan Housing Authority | 478 Thorne Avenue | Wilmington | OH | 45214-2001 | 333,219
Erie Metropolitan Housing Authority | 345 North Market Street | Wooster | OH | 44870-2265 | 51,650
Dayton Metropolitan Housing Authority | 131 West Boardman St | Youngstown | OH | 45410-1118 | 160,294
Jackson Metropolitan Housing Authority | 407 Pershing Road | Zanesville | OH | 45692-0619 | 40,640
Housing Authority of the City of Muskogee | 220 North 40th | Muskogee | OK | 74401-2129 | 42,436
Housing Authority of the City of Norman | 700 North Berry Road | Norman | OK | 73069-7562 | 44,515
Oklahoma City Housing Authority | 1700 Northeast Fourth Street | Oklahoma City | OK | 73117-3800 | 35,358
Oklahoma Housing Finance Agency | 100 NW 63rd Street, Suite 200 | Oklahoma City | OK | 73116-8208 | 195,071
Housing Authority of the City of Shawnee | 601 W. Seventh St., P.O. Box 3427 | Shawnee | OK | 74802-3427 | 133,356
Housing Authority of the City of Stillwater | 807 S. Lowry | Stillwater | OK | 74074-4742 | 45,178
Housing Authority of the City of Tulsa | 415 E. Independence St | Tulsa | OK | 74106-5727 | 86,006
Linn-Benton Housing Authority | 1250 Queen Avenue Se | Albany | OR | 97322-6661 | 137,360
Housing Authority & Urban Renewal Agency of Polk County | 204 SW Walnut Ave., P.O. Box 467 | Dallas | OR | 97338-1428 | 67,000
Housing and Community Services Agency of Lane County | 177 Day Island Rd | Eugene | OR | 97401-7911 | 207,000
Housing Authority of Washington County | 111 Ne Lincoln Street, Suite 200-L | Hillsboro | OR | 97124-3036 | 120,563
Northeast Oregon Housing Authority | P.O. Box 3357 | La Grande | OR | 97850-7357 | 85,000
Housing Authority of Yamhill County | 135 Ne Dunn Place | McMinnville | OR | 97128-9081 | 262,625
Housing Authority of Jackson County | 2251 Table Rock Rd | Medford | OR | 97501-1409 | 127,526
Housing Authority of Clackamas County | P.O. Box 1510; 13930 S. Gain St | Oregon City | OR | 97045-0510 | 99,286
Home Forward | 135 SW Ash Street | Portland | OR | 97204-3540 | 513,219
Central Oregon Regional Housing Authority | 405 SW 6th Street | Redmond | OR | 97756-2204 | 134,654
Housing Authority of the City of Salem | 360 Church St Se | Salem | OR | 97301-3707 | 267,213
Marion County Housing Authority | 2645 Portland Rd. N.E. Suite 200 | Salem | OR | 97301-0198 | 48,040
Columbia Gorge Housing Authority | 500 E 2nd Street | The Dalles | OR | 97058-2129 | 54,000
Mid-Columbia Housing Authority | 500 E 2nd St | The Dalles | OR | 97058-2129 | 54,000
Northwest Oregon Housing Authority | P.O. Box 1149 | Warrenton | OR | 97146-1149 | 45,437
Lehigh County Housing Authority | 2700 Pleasant Valley Blvd | Altoona | PA | 18049-3722 | 48,480
Housing Authority of the County of Dauphin | 602 East Howard Street | Bellefonte | PA | 17113-7598 | 56,654
Housing Authority of Indiana County | 114 Woody Dr | Butler | PA | 15701-2132 | 26,429
Lycoming County Housing Authority | 436 West Washington St | Chambersburg | PA | 17701-2824 | 39,952
Adams County Housing Authority | 8 West Main Street | Clarion | PA | 17325-2316 | 47,768
Westmoreland County Housing Authority | 157 South Fourth Street, P.O. Box 876 | Easton | PA | 15601-6392 | 210,717
Housing Authority of the County of Franklin | 635 Broad St | Emmaus | PA | 17201-2458 | 20,800
Housing Authority of the City of Lancaster | 40 E. High St | Gettysburg | PA | 17602-4201 | 34,500
Housing Authority of North Cumberland County | 154 S. Greengate Road | Greensburg | PA | 17847-1016 | 64,214
Philadelphia Housing Authority | 351 Chestnut Street | Harrisburg | PA | 19103-3014 | 414,000
Housing Authority of Centre County | 104 Philadelphia Street | Indiana | PA | 16823-2145 | 47,278
Housing Authority of the County of Clarion | 350 South Jefferson Street | Kittanning | PA | 16214-1816 | 81,266
Delaware County Housing Authority | 325 Church Street | Lancaster | PA | 19094-1428 | 43,932
Altoona Housing Authority | 50 Manoning Street | Milton | PA | 16602-4492 | 53,836
Allegheny County Housing Authority | 104 W. Main Street, Suite #1 | Norristown | PA | 15222-1418 | 169,307
Housing Authority of the City of Pittsburgh | 12 S. 23rd Street, 6th Floor | Philadelphia | PA | 15219-2068 | 349,017
Housing Authority of the County of Armstrong | 200 Ross St | Pittsburgh | PA | 16201-2418 | 26,587
Housing Authority of the County of Chester | 625 Stanwix Street-12th Floor | Pittsburgh | PA | 19382-8401 | 53,200
Housing Authority of the City of York | 501 Mohn Street, P.O. Box 7598 | Steelton | PA | 17403-0000 | 69,000
Housing Authority of the City of Easton | 30 West Barnard Street, Suite 2 | West Chester | PA | 18044-0876 | 57,570
Harrisburg Housing Authority | 1941 Lincoln Drive | Williamsport | PA | 17101-2785 | 55,000
Montgomery County Housing Authority | 1855 Constitution Avenue | Woodlyn | PA | 19401-4716 | 55,182
The Housing Authority of the County of Butler | 31 S. Broad St | York | PA | 16001-5692 | 45,477
Municipality of Bayamon | P.O. Box 1588 | Bayamon | PR | 00960-1588 | 28,180
Municipality of Juana Diaz | Calle Degetau #35, P.O. Box 1409 | Juana Diaz | PR | 00795-1409 | 24,203
Municipality of San German | 136 Ave Universidad Interamericana | San German | PR | 0000-00683 | 58,755
Municipality of San Juan | P.O. Box 70179 | San Juan | PR | 00936-8179 | 30,105
Central Falls Housing Authority | 30 Washington Street | Central Falls | RI | 02863-2842 | 63,456
Town of Coventry Housing Authority | 14 Manchester Circle | Coventry | RI | 02816-8827 | 51,571
Town of Cumberland Housing Authority | 573 Mendon Rd | Cumberland | RI | 02864-6200 | 67,326
Housing Authority of the Town of East Greenwich | 146 First Avenue | East Greenwich | RI | 02818-3663 | 69,000
East Providence Housing Authority | 99 Goldsmith Avenue | East Providence | RI | 02914-2221 | 58,970
Narragansett Housing Authority | 25 Fifth Avenue | Narragansett | RI | 02882-3612 | 69,000
Town of North Providence Housing Authority | 945 Charles Street | North Providence | RI | 02904-5647 | 20,020
Housing Authority of the City of Pawtucket | 214 Roosevelt Avenue | Pawtucket | RI | 02860-2153 | 138,000
Rhode Island Housing | 44 Washington Street | Providence | RI | 02903-1721 | 183,618
The Housing Authority of the City of Providence | 100 Broad Street | Providence | RI | 02903-4129 | 196,744
Warwick Housing Authority | 1035 West Shore Road | Warwick | RI | 02889-3417 | 69,000
Charleston County Housing and Redevelopment Authority | 2106 Mount Pleasant Street | Charleston | SC | 29403-0000 | 60,000
The Housing Authority City of Charleston | 550 Meeting Street | Charleston | SC | 29403-5068 | 52,136
Housing Authority of Greenville | 122 Edinburg | Greenville | SC | 29607-2530 | 101,393
Housing Authority of Myrtle Beach | 605 10th Avenue North, P.O. Box 2468 | Myrtle Beach | SC | 29577-2468 | 68,680
North Charleston Housing Authority | 2170 Ashley Phosphate Rd., #700 | North Charleston | SC | 29406-4195 | 50,000
Housing Authority of the City of Spartanburg | 2271 South Pine Street | Spartanburg | SC | 29302-4339 | 109,364
Brookings County Housing & Redevelopment Commission | 1310 S. Main Ave. Suite #106 | Brookings | SD | 57006-0432 | 37,823
Mobridge Housing & Redevelopment Commission | 202 1st Ave East | Mobridge | SD | 57601-0370 | 34,233
Sioux Falls Housing and Redevelopment Commission | 630 S. Minnesota Ave | Sioux Falls | SD | 57104-4825 | 73,865
Chattanooga Housing Authority | 801 N Holtzclaw Avenue | Chattanooga | TN | 37404-1486 | 125,800
East Tennessee Human Resource Agency, Inc | 101 Penny Avenue | Columbia | TN | 37923-4517 | 34,750
Jackson Housing Authority | P.O. Box 425 | Crossville | TN | 38301-4888 | 203,278
Town of Crossville Housing Authority | 200 Spring Street | Franklin | TN | 38557-0425 | 54,158
Shelbyville Housing Authority | 125 Preston Street | Jackson | TN | 37160-3295 | 49,037
Kingsport Housing & Redevelopment Authority | 906 E. Sevier Avenue, P.O. Box 44 | Kingsport | TN | 37662-0044 | 157,258
Franklin Housing Authority | 9111 Cross Park Drive Suite D-100 | Knoxville | TN | 37064-3311 | 55,080
Knoxville's Community Development Corporation | 901 N. Broadway, P.O. Box 3550 | Knoxville | TN | 37927-6663 | 48,583
Housing Authority of the City of Mission | 1300 East 8th | Mission | TN | 78572-5817 | 86,735
Tennessee Housing Development Agency | 502 Deaderick Street Third Floor | Nashville | TN | 37243-0900 | 267,000
Oak Ridge Housing Authority | 10 Van Hicks Lane | Oak Ridge | TN | 37830-4969 | 20,892
Columbia Housing & Redevelopment Authority | 316 Templeton Street | Shelbyville | TN | 38401-0000 | 69,000
Housing Authority of the City of Waco | 534 Cypress, Suite 200 | Abilene | TX | 76703-0978 | 98,746
Housing Authority of the City of Pharr | P.O. Box 1971 | Amarillo | TX | 78577-3023 | 37,501
Housing Authority of the City of Wichita Falls | 1007 Franklin St | Anthony | TX | 76306-2954 | 48,500
Housing Authority of the City of Lubbock | 501 W. Sanford Street, Suite 20 | Arlington | TX | 79401-5105 | 39,390
City of Longview, TX | 1124 S. Ih-35 | Austin | TX | 75606-1952 | 49,014
Housing Authority of the City of Abilene | 1890 Laurel | Beaumont | TX | 79601-5198 | 48,320
Housing Authority of San Angelo | 2606 Boca Chica Blvd | Brownsville | TX | 76903-2455 | 80,000
Anthony Housing Authority | 3991 E. 29th Street, P.O. Drawer 4128 | Bryan | TX | 79821-0017 | 37,988
Housing Authority of Bexar County | 1500 North Frazier, Suite 101 | Conroe | TX | 78212-0000 | 179,000
Housing Authority of the City of Ft. Worth | 3939 N. Hampton Rd | Dallas | TX | 76102-5764 | 337,320
Robstown Housing Authority | 2377 North Stemmons Freeway, Suite 600 | Dallas | TX | 78380-4110 | 30,000
Housing Authority of Austin | 5300 E. Paisano Dr | El Paso | TX | 78704-2614 | 248,317
Housing Authority of the City of El Paso | 1201 E. 13th Street | Fort Worth | TX | 79905-2931 | 101,794
Galveston Housing Authority | 2100 Circle Drive | Fort Worth | TX | 77551-4241 | 29,576
Housing Authority of the Round Rock | 4700 Broadway | Galveston | TX | 78664-4545 | 69,000
Houston Housing Authority | 2640 Fountainview, Suite 400 | Houston | TX | 77057-7610 | 327,282
Tarrant County Housing Assistance Office | 340 State Hwy 75 North, Ste. E | Huntsville | TX | 76119-8130 | 194,081
Housing Authority of the City of Arlington | 210 Premier Drive | Jasper | TX | 76011-7090 | 162,702
Brazos Valley Council of Governments | 1000 W. Corral Avenue | Kingsville | TX | 77805-4128 | 483,000
Housing Authority of the City of Beaumont | P.O. Box 1952 | Longview | TX | 77701-1904 | 82,410
Housing Authority of the City of Brownsville | 1708 Crickets Avenue | Lubbock | TX | 78521-2312 | 182,283
City of Amarillo | 2301 Jasmine Avenue | McAllen | TX | 79105-1971 | 34,500
San Marcos Housing Authority | 1710 Edwards | Midland | TX | 78666-6565 | 102,520
Housing Authority of the County of Hidalgo | 104 W. Polk Ave | Pharr | TX | 78599-4034 | 79,196
Midland County Housing Authority | 625 W. Ave. F | Robstown | TX | 79701-2313 | 42,466
Texoma Council of Governments | 1505 Lance Lane | Round Rock | TX | 75090-3107 | 134,862
McAllen Housing Authority | 420 East 28th Street | San Angelo | TX | 78501-7496 | 45,000
Dallas, County of | 1017 N. Main Avenue, Suite 201 | San Antonio | TX | 75207-2710 | 64,000
Walker County Housing Authority | 818 S. Flores Street | San Antonio | TX | 77320-3176 | 45,450
Deep East Texas Council of Governments | 1201 Thorpe Lane | San Marcos | TX | 75951-7495 | 71,714
Housing Authority of the City of Kingsville | 1117 Gallagher Drive | Sherman | TX | 78363-3035 | 54,823
San Antonio Housing Authority | 4400 Cobbs Drive, P.O. Box 978 | Waco | TX | 78208-0000 | 807,673
Montgomery County Housing Authority | 1800 N Texas Blvd | Weslaco | TX | 77301-22208 | 43,122
The Housing Authority of the City of Dallas | 501 Webster | Wichita Falls | TX | 75212-1603 | 746,384
Davis Community Housing Authority | 352 South 200 West, Suite 1, P.O. Box 328 | Farmington | UT | 84025-0328 | 24,387
Housing Authority of the City of Ogden | 1100 Grant Ave | Ogden | UT | 84404-4931 | 52,030
Housing Authority of Utah County | 240 E Center | Provo | UT | 84606-3162 | 53,539
Provo City Housing Authority | 650 West 100 North | Provo | UT | 84601-2632 | 81,952
Housing Authority of Salt Lake City | 1776 S West Temple | Salt Lake City | UT | 84115-1816 | 101,804
Housing Authority of the County of Salt Lake | 3595 South Main Street | Salt Lake City | UT | 84115-4434 | 202,098
St. George Housing Authority | 975 North 1725 West # 101 | St. George | UT | 84770-4963 | 20,570
Tooele County Housing Authority | 66 West Vine Street | Tooele | UT | 84074-2152 | 44,928
County of Loudoun | 401 Wythe Street | Alexandria | VA | 20177-7400 | 67,326
Bristol Redevelopment and Housing Authority | 809 Edmond Street | Bristol | VA | 24201-4385 | 41,843
City of Roanoke Redevelopment and Housing Authority | 1468 S. Military Highway | Chesapeake | VA | 24017-5443 | 161,460
Richmond Redevelopment and Housing Authority | 135 Jones Crossing | Danville | VA | 23220-6887 | 69,000
City of VA Beach Dept. of Housing and Neighborhood Preservation | 3700 Pender Drive, Suite 300 | Fairfax | VA | 23456-9083 | 48,435
Hampton Redevelopment & Housing Authority | 100 East Fourth Ave | Franklin | VA | 23669-0280 | 50,813
Chesapeake Redevelopment & Housing Authority | 1 Franklin St, Suite 603, P.O. Box 280 | Hampton | VA | 23320-2604 | 162,030
Alexandria Redevelopment & Housing Authority | P.O. Box 1361 | Hopewell | VA | 22314-0000 | 138,000
James City County Office of Housing & Community Development | P.O. Box 7400 | Leesburg | VA | 23188-2674 | 23,990
Newport News Redevelopment and Housing Authority | 227 27th Street | Newport News | VA | 23607-0797 | 148,068
Hopewell Redevelopment and Housing Authority | 201 Granby Street | Norfolk | VA | 23860-7812 | 69,000
Portsmouth Redevelopment and Housing Authority | 3116 South Street, P.O. Box 1098 | Portsmouth | VA | 23705-4116 | 196,272
Norfolk Redevelopment and Housing Authority | 901 Chamberlayne Parkway | Richmond | VA | 23510-1820 | 332,175
Danville Redevelopment and Housing Authority | 2624 Salem Turnpike, N.W | Roanoke | VA | 24541-0669 | 47,271
Fairfax County Redevelopment and Housing Authority | 530 East Pinner Street | Suffolk | VA | 22030-6039 | 138,000
Waynesboro Redevelopment and Housing Authority | 2424 Courthouse Drive | Virginia Beach | VA | 22980-0821 | 83,321
Franklin Redevelopment and Housing Authority | 1700 New Hope Road, P.O. Box 1138 | Waynesboro | VA | 23851-1901 | 60,000
Suffolk Redevelopment and Housing Authority | 5320 Palmer Lane, Suite 1a | Williamsburg | VA | 23434-3023 | 104,340
Prince William County OHCD | 15941 Donald Curtis Drive | Woodbridge | VA | 22191-4256 | 69,000
Virgin Islands Housing Authority | 4402 Anna's Retreat #200 | St. Thomas | VI | 00802-1737 | 69,000
Brattleboro Housing Authority | P.O. Box 2275 | Brattleboro | VT | 05303-0000 | 138,000
Burlington Housing Authority | 65 Main Street | Burlington | VT | 05401-8408 | 101,685
Vermont State Housing Authority | 1 Prospect Street | Montpelier | VT | 05602-3556 | 234,998
Housing Authority of Island County | 345 6th Street, Suite 100 | Bremerton | WA | 98239-3400 | 48,267
The Housing Authority of the City Bremerton | 600 Park Ave | Bremerton | WA | 98337-1544 | 66,717
Pierce County Housing Authority | 1650 Port Drive | Burlington | WA | 98444-2613 | 138,000
Housing Authority of the City of Pasco and Franklin County | 7 NW 6th Street | Coupeville | WA | 99301-4569 | 50,160
Housing Authority of the City of Vancouver | 1415 S. 10th | Kelso | WA | 98660-2676 | 192,056
Housing Authority City of Longview | 820 11th Avenue | Longview | WA | 98632-2072 | 80,655
Housing Authority of the City of Yakima | 1206 12th Avenue SE | Olympia | WA | 98902-1474 | 113,500
Housing Authority City of Kelso | 2505 West Lewis Street | Pasco | WA | 98626-2729 | 44,266
Peninsula Housing Authority | 2603 S. Francis Street | Port Angeles | WA | 98362-6710 | 94,170
Seattle Housing Authority | 190 Queen Anne Ave. N., P.O. Box 19028 | Seattle | WA | 98109-1028 | 414,000
Housing Authority of the City of Tacoma | 902 South L Street | Tacoma | WA | 98405-4037 | 197,662
Housing Authority of Thurston County | 1525 108th Street S | Tacoma | WA | 98501-2351 | 132,428
King County Housing Authority | 600 Andover Park West | Tukwila, | WA | 98188-3326 | 329,785
Housing Authority of Chelan County and the City of Wenatchee | 2500 Main St Ste 100 | Vancouver | WA | 98801-9417 | 42,067
Housing Authority of Skagit County | 1555 S. Methow | Wenatchee | WA | 98233-3106 | 49,000
Kitsap County Consolidated Housing Authority | 810 N 6th Avenue | Yakima | WA | 98337-1891 | 25,756
Appleton Housing Authority | 925 W Northland Ave | Appleton | WI | 54914-1422 | 49,600
Brown County Housing Authority | 100 N Jefferson St | Green Bay | WI | 54301-5006 | 90,308
City of Kenosha Housing Authority | 625 52nd Street, Rm 98 | Kenosha | WI | 53140-3480 | 67,266
Housing Authority of the City of Milwaukee | P.O. Box 324 | Milwaukee | WI | 53201-0324 | 138,000
Dane County Housing Authority | 2001 W. Broadway | Monona | WI | 53713-3707 | 38,572
Winnebago County Housing Authority | 600 Merritt Avenue | Oshkosh | WI | 54901-5178 | 69,000
Housing Authority of Racine County | 837 Main Street | Racine | WI | 53403-1522 | 66,190
Benwood-McMechen Housing Authority | 2200 Marshall Street | Benwood | WV | 26031-1323 | 18,104
Charleston-Kanawha Housing Authority | 1525 Washington St West | Charleston | WV | 25387-2332 | 81,960
Clarksburg-Harrison Regional Housing Authority | 433 Baltimore Ave | Clarksburg | WV | 26301-2053 | 34,028
Housing Authority of Mingo County | 5026 Helena Avenue | Delbarton | WV | 25670-0120 | 69,000
Randolph County Housing Authority | 1404 N Randolph Avenue, P.O. Box 1579 | Elkins | WV | 26241-9661 | 22,736
The Fairmont-Morgantown Housing Authority | 103 Twelfth Street, P.O. Box 2738 | Fairmont | WV | 26555-2738 | 30,186
The Huntington West Virginia Housing Authority | 300 Seventh Avenue, West | Huntington | WV | 25701-1739 | 36,960
Parkersburg Housing Authority | 1901 Cameron Ave | Parkersburg | WV | 26101-9316 | 43,275
Wheeling Housing Authority | 11 Community St., P.O. Box 2089 | Wheeling | WV | 26003-5201 | 48,410

Appendix C

FY2016 Jobs Plus Initiative

Contact: Jayme Brown, 202-402-3264

Recipient |  |  |  |  | Amount
Housing Authority of the City of Tampa | 5301 West Cypress St | Tampa | FL | 33607 | $2,500,000
City of Phoenix Housing Department | 251 W. Washington St | Phoenix | AZ | 85003 | 2,000,000
Housing Authority of Baltimore City | 417 E. Fayette Street | Baltimore | MD | 21202 | 2,498,734
Greater Dayton Premier Management (Dayton MHA) | 400 Wayne Ave | Dayton | OH | 45410 | 2,399,211
New York City Housing Authority | 250 Broadway | New York | NY | 10007 | 2,000,000
The City of Providence Housing Authority | 100 Broad St | Providence | RI | 02903 | 2,999,608

Appendix D

FY2016 Research and Evaluation, Demonstration, and Data Analysis and Utilization

Contact:

Recipient |  |  |  |  | Amount
The Urban Institute | 2100 M St. NW | Washington | DC | 20037 | $899,177
University of Florida | 207 Ginter Hall | Gainesville | FL | 32611 | 531,539
Home Innovation Research | 400 Prince Georges Blvd | Upper Marlboro | MD | 20774 | 835,325
Auburn University | 310 Samford Hall | Auburn | AL | 36849 | 633,136

Appendix E

FY2017 Comprehensive Housing Counseling Grant Program

Contact: David Valdez, 713-718-3178.

Recipient |  |  |  |  | Amount
Jefferson County Housing Authority | 3700 Industrial Parkway | Birmingham | AL | 35217 | $15,476
United Way of Central Alabama, Inc | 3600 8th Avenue | Birmingham | AL | 35222 | 308,121
Community Action Partnership of North Alabama, Inc | 1909 Central Pkwy SW | Decatur | AL | 35601 | 22,042
Community Action Agency of Northwest Alabama, Inc | 745 Thompson St | Florence | AL | 35630 | 24,788
Community Action Partnership, Huntsville/Madison & Limestone Counties, Inc | 3516 Stringfield Rd NW | Huntsville | AL | 35810 | 20,542
CCCS of Alabama—Montgomery | 640 South Lawrence Street, Farmer Wilson Building | Montgomery | AL | 36104 | 24,236
Housing Authority of the City of Prichard | 200 W. Prichard Avenue | Prichard | AL | 36610 | 18,221
Organized Community Action Program, Inc | 507 N 3 Notch St | Troy | AL | 36081 | 20,840
Community Service Programs of West Alabama, Inc | 601 Black Bears Way | Tuscaloosa | AL | 35401 | 25,609
Mississippi County, Arkansas Economic Opportunity Commission, Inc | 1400 North Division Street | Blytheville | AR | 72315 | 17,400
Crawford Sebastian Community Development Council | 1617 South Zero | Fort Smith | AR | 72901 | 24,788
Northwest Regional Housing Authority | 114 Sisco Ave | Harrison | AR | 72601 | 16,296
In Affordable Housing, Incorporated | 108 S Rodney Parham Rd | Little Rock | AR | 72205 | 26,921
Southern Bancorp Community Partners | 8924 Kanis Rd | Little Rock | AR | 72205 | 19,721
Universal Housing Development Corporation | 301 E 3rd St | Russellville | AR | 72801 | 24,378
Newtown Community Development Corporation | 511 W University Dr., Suite 4 | Tempe | AZ | 85281 | 22,594
Eden Council for Hope and Opportunity (Echo) | 770 A St | Hayward | CA | 94541 | 24,251
Operation Hope, Inc | 707 Wilshire Blvd Suite 3030 | Los Angeles | CA | 90017 | 200,000
Project Sentinel | 554 Valley Way | Milpitas | CA | 95035 | 30,823
Community Housing and Shelter Services | 708 H Street | Modesto | CA | 95354 | 21,378
Habitat for Humanity, Stanislaus County | 630 Kearney Avenue | Modesto | CA | 95350 | 25,199
National Association of Real Estate Brokers-Investment Division, Inc | 7677 Oak Port Street, Suite 1030, 10th Fl | Oakland | CA | 94621 | 1,048,234
Fair Housing Council of Riverside County, Inc | 3933 Mission Inn Ave | Riverside | CA | 92501 | 33,041
Asian Incorporated | 1167 Mission Street, 4th Floor | San Francisco | CA | 94103 | 23,288
Consumer Credit Counseling Services of San Francisco | 595 Market St, Suite 920 | San Francisco | CA | 94105 | 619,754
Fair Housing Advocates of Northern California | 1314 Lincoln Ave | San Rafael | CA | 94901 | 20,825
Orange County Fair Housing Council, Inc | 1516 Brookhollow Drive, Suite A | Santa Ana | CA | 92705 | 17,542
City of Vacaville Department of Housing Services | 40 Eldridge Avenue Suite 2 | Vacaville | CA | 95688 | 19,580
Community Services and Employment Training, Inc | 312 NW 3rd Avenue | Visalia | CA | 93291 | 18,079
Rural Community Assistance Corporation | 3120 Freeboard Drive, Suite 201 | West Sacramento | CA | 95691 | 831,486
Colorado Housing and Finance Authority | 1981 Blake St | Denver | CO | 80202 | 588,701
Community Renewal Team, Inc | 330 Market Street | Hartford | CT | 06120 | 17,117
Connecticut Housing Finance Authority | 999 West Street | Rocky Hill | CT | 06067 | 224,070
Housing Counseling Services, Incorporated | 2410 17th St NW Ste 100 | Washington | DC | 20009 | 77,205
National CAPACD | 1628 16th Street, NW, 4th Floor | Washington | DC | 20009 | 709,815
National Community Reinvestment Coalition, Inc | 740 15th St NW, Suite 400 | Washington | DC | 20005 | 1,380,384
National Council of La Raza | 1126 16th Street, NW, Suite 600, Raul Yzaguirre Building | Washington | DC | 20036 | 1,811,601
National Foundation for Credit Counseling, Inc | 2000 M St. NW, Suite 505 | Washington | DC | 20036 | 1,623,724
Neighborhood Reinvestment Corp. DBA NeighborWorks America | 999 North Capital Street NE, Suite 900 | Washington | DC | 20002 | 3,000,000
Delaware State Housing Authority | 18 The Green | Dover | DE | 19901 | 116,071
All-American Foreclosure Solutions, Inc | 1430 SE 16th PL Suite “A“ | Cape Coral | FL | 33990 | 20,132
Bright Community Trust, Inc | 2605 Enterprise Road E. Suite 230 | Clearwater | FL | 33759 | 21,094
Tampa Bay Community Development Corporation | 2139 NE Coachman Rd | Clearwater | FL | 33765 | 25,340
Adopt A Hurricane Family, Inc. Dba Crisis Housing Solutions | 4700 SW 64th Avenue—Suite C | Davie | FL | 33314 | 20,146
Mid-Florida Housing Partnership, Inc | 1834 Mason Ave | Daytona Beach | FL | 32117 | 22,736
Affordable Homeownership Foundation Inc | 5264 Clayton Ct., Suite 1 | Fort Myers | FL | 33907 | 20,953
Home Ownership Resource Center of Lee County | 2915 Colonial Blvd Ste 200 | Fort Myers | FL | 33966 | 18,900
Lee County Housing Development Corporation | 3677 Central Ave, Suite F | Fort Myers | FL | 33901 | 18,079
Habitat for Humanity of Jacksonville, Inc | 2404 Hubbard Street | Jacksonville | FL | 32206 | 19,042
Jacksonville Area Legal Aid, Inc | 126 W Adams St | Jacksonville | FL | 32202 | 22,736
The Agriculture and Labor Program, Inc | 300 Lynchburg Rd | Lake Alfred | FL | 33850 | 17,527
Broward County Housing Authority | 4780 N State Road 7 | Lauderdale Lakes | FL | 33319 | 23,415
Debt Management Credit Counseling Corp | 3310 N. Federal Highway | Lighthouse Point | FL | 33064 | 124,970
Community Housing Initiative, Inc | 3033 College Wood Dr | Melbourne | FL | 32934 | 23,147
Miami Beach Community Development Corp | 945 Pennsylvania Ave | Miami Beach | FL | 33139 | 14,655
Ocala Housing Authority | 1629 NW 4th St | Ocala | FL | 34475 | 28,370
Opa Locka Community Development Corporation | 490 Opa Locka Blvd | Opa Locka | FL | 33054 | 23,005
Community Enterprise Investments, Incorporated | 302 North Barcelona St | Pensacola | FL | 32501 | 22,453
Consolidated Credit Solutions, Inc | 5701 W Sunrise Blvd | Plantation | FL | 33313 | 46,737
Comprehensive Housing Resources, Inc | 21450 Gibralter Dr., Suite 1 | Port Charlotte | FL | 33952 | 20,825
Manatee Community Action Agency, Inc | 6428 Parkland Dr | Sarasota | FL | 34243 | 20,811
Solita's House Inc | 3101 E. 7th Ave | Tampa | FL | 33605 | 26,161
Credit Card Mgmt. Svcs., Inc. DBA Debthelper.Com | 1325 N Congress Ave, #201 | West Palm Beach | FL | 33401 | 198,435
West Palm Beach Housing Authority | 1715 Division Ave | West Palm Beach | FL | 33407 | 23,415
Area Committee to Improve Opportunities Now, Inc | 594 Oconee Street | Athens | GA | 30605 | 20,542
Georgia Housing and Finance Authority | 60 Executive Park South, NE | Atlanta | GA | 30329 | 570,000
Summech Community Development Corporation, Inc | 633 Pryor Street | Atlanta | GA | 30312 | 23,623
Affordable Housing Enterprises, Inc | 214 South 12th Street | Griffin | GA | 30224 | 21,363
Home Development Resources, Inc | 67 Athens Street | Jefferson | GA | 30549 | 15,886
Appalachian Housing and Redevelopment Corporation | 800 Avenue B | Rome | GA | 30165 | 14,655
Economic Opportunity for Savannah Chatham County Area, Inc | 618 W Anderson St | Savannah | GA | 31415 | 19,594
Refugee Family Assistance Program | 5405 Memorial Drive Suite 101 | Stone Mountain | GA | 30083 | 21,915
United Neighbors, Inc | 808 Harrison Street | Davenport | IA | 52803 | 18,348
Home Opportunities Made Easy, Inc. (Home, Inc.) | 1111 Ninth Street, Suite 210 | Des Moines | IA | 50314 | 21,221
Eastern Iowa Regional Housing Authority | 7600 Commerce Park | Dubuque | IA | 52002 | 22,250
Muscatine Municipal Housing Agency | 215 Sycamore St | Muscatine | IA | 52761 | 21,632
Center for Siouxland | 715 Douglas St | Sioux City | IA | 51101 | 27,534
Family Management Financial Solutions, Inc | 359 Rock Island Ave | Waterloo | IA | 50701 | 23,496
Idaho Housing and Finance Association | 565 West Myrtle | Boise | ID | 83702 | 267,723
Macoupin County Housing Authority | 760 Anderson Street | Carlinville | IL | 62626 | 18,348
Housing Action Illinois | 11 E. Adams St, Suite 1601 | Chicago | IL | 60603 | 820,030
Latin United Community Housing Association | 3541 W. North Avenue | Chicago | IL | 60647 | 25,000
Smart Money Housing Aka Smart Women Smart Money | 3510 West Franklin Blvd | Chicago | IL | 60624 | 41,975
Total Resource Community Development Organization | 1415 W 104th St | Chicago | IL | 60643 | 22,609
Community Investment Corporation of Decatur, Inc | 2121 S. Imboden Court | Decatur | IL | 62521 | 21,221
Lake County Housing Authority | 33928 N US Highway 45 | Grayslake | IL | 60030 | 23,684
Will County Center for Community Concerns | 2455 Glenwood Ave | Joliet | IL | 60435 | 32,398
Springfield Housing Authority | 200 N 11th St | Springfield | IL | 62703 | 14,655
Open Communities | 614 Lincoln Avenue | Winnetka | IL | 60093 | 17,259
City of Bloomington—Housing and Neighborhood Development (Hand) | 401 N Morton Street | Bloomington | IN | 47404 | 25,675
Community Action Program of Evansville & Vanderburgh County, Inc | 401 SE 6th St Ste 1 | Evansville | IN | 47713 | 21,915
The Affordable Housing Corporation of Marion, Indiana | 812 S Washington St | Marion | IN | 46953 | 26,982
Hoosier Uplands Economic Development Corporation | 500 W Main St | Mitchell | IN | 47446 | 24,378
Muncie Home Ownership and Development Center | 120 West Charles Street | Muncie | IN | 47305 | 21,363
Lincoln Hills Development Corporation | 302 Main St | Tell City | IN | 47586 | 22,453
Housing Assistance and Development Services, Inc | 215 E 12th Ave | Bowling Green | KY | 42101 | 20,953
Live The Dream Development, Inc | 247 Double Springs Rd | Bowling Green | KY | 42101 | 17,117
Campbellsville Housing and Redevelopment Authority | 400 Ingram Ave, PO Box 597 | Campbellsville | KY | 42718 | 11,970
Kentucky Housing Corporation | 1231 Louisville Rd | Frankfort | KY | 40601 | 357,292
KCEOC Community Action Partnership, Inc | 5448 N US Highway 25E | Gray | KY | 40734 | 20,684
Louisiana Housing Corporation | 2415 Quail Drive | Baton Rouge | LA | 70808 | 580,191
Saint Martin, Iberia, Lafayette Community Action Agency | 501 Saint John St | Lafayette | LA | 70501 | 20,132
Action for Boston Community Development, Inc | 178 Tremont St | Boston | MA | 02111 | 29,166
Citizens' Housing and Planning Association, Inc | 18 Tremont Street, Suite 401 | Boston | MA | 02108 | 801,584
Neighborhood Stabilization Corporation | 225 Centre Street, Suite 100 | Boston | MA | 02119 | 1,717,297
The Housing Partnership Network | 1 Washington Mall, 12th Fl | Boston | MA | 02108 | 987,136
Chelsea Restoration Corporation | 154 Pearl St. Ofc 2 | Chelsea | MA | 02150 | 21,646
Catholic Social Services—Fall River | PO Box M | Fall River | MA | 02724 | 17,117
Community Service Network, Inc | 136 Elm Street | Stoneham | MA | 02180 | 20,750
Pro-Home, Inc | 40 Summer Street | Taunton | MA | 02780 | 24,236
RCAP Solutions, Inc | 12 E Worcester St | Worcester | MA | 01604 | 23,967
Arundel Community Development Service Inc | 2666 Riva Road, Suite 210 | Annapolis | MD | 21401 | 25,340
Garwyn Oaks Northwest Housing Resource Center, Inc | 2300 Garrison Blvd, Suite 140 | Baltimore | MD | 21216 | 23,005
Harford County Housing Agency | 15 S Main St Ste 106 | Bel Air | MD | 21014 | 26,906
Frederick Community Action Agency | 100 S Market St | Frederick | MD | 21701 | 27,869
Maryland Rural Development Corporation | 101 Cedar Lane, PO Box 739 | Greensboro | MD | 21639 | 20,400
Hagerstown Neighborhood Development Partnership, Inc | 21 E Franklin St | Hagerstown | MD | 21740 | 23,826
Washington County Community Action Council | 101 Summit Ave | Hagerstown | MD | 21740 | 26,227
Southern Maryland Tri-County Community Action | 8383 Old Leonardtown Road | Hughesville | MD | 20637 | 25,609
Housing Initiative Partnership, Inc | 6525 Belcrest Road, Suite 555 | Hyattsville | MD | 20782 | 33,786
Home Partnership, Inc | 626 Towne Center Dr., Suite 102 | Joppa | MD | 21085 | 19,990
Garrett County Community Action Committee, Inc | 104 E Center St | Oakland | MD | 21550 | 26,855
Homefree—U S A | 6200 Baltimore Avenue, 3rd Floor | Riverdale | MD | 20737 | 2,207,859
Shore Up!, Inc | 520 Snow Hill Rd | Salisbury | MD | 21804 | 18,900
Diversified Housing Development, Inc | 8025 Liberty Rd | Windsor Mill | MD | 21244 | 24,378
Maine State Housing Authority | 353 Water Street | Augusta | ME | 04330 | 178,000
Midcoast Maine Community Action | 34 Wing Farm Pkwy | Bath | ME | 04530 | 22,057
Bay Area Housing, Inc | 114 Washington Ave | Bay City | MI | 48708 | 23,826
Housing Services Mid-Michigan | 319 S Cochran Ave | Charlotte | MI | 48813 | 24,930
Greenpath, Inc | 36500 Corporate Drive | Farmington Hills | MI | 48331 | 2,494,258
NCCS Center for Nonprofit Housing | 6308 S. Warner Ave | Fremont | MI | 49412 | 14,655
Grand Rapids Urban League | 745 Eastern Ave SE | Grand Rapids | MI | 49503 | 19,863
Community Action Agency | 1214 Greenwood Ave | Jackson | MI | 49203 | 31,025
Michigan State Housing Development Authority | 735 E. Michigan Avenue | Lansing | MI | 48912 | 565,182
Oakland County Housing Counseling | 250 Elizabeth Lake Rd Ste 1900 | Pontiac | MI | 48341 | 31,771
Oakland Livingston Human Service Agency | 196 Cesar E Chavez Ave | Pontiac | MI | 48342 | 21,632
Northwest Michigan Community Action Agency, Inc | 3963 Three Mile Road, North | Traverse City | MI | 49686 | 26,982
Community Housing Network, Inc | 570 Kirts Blvd. Suite 231 | Troy | MI | 48084 | 21,221
African Development Center of Minnesota | 1931 S 5th St | Minneapolis | MN | 55454 | 19,863
Homeownership Preservation Foundation | 7645 Lyndale Ave. South, Suite 250 | Minneapolis | MN | 55423 | 1,121,052
Catholic Charities Diocese of St. Cloud | 157 Roosevelt Rd Ste 200 | Saint Cloud | MN | 56301 | 20,000
Minnesota Homeownership Center | 1000 Payne Avenue, Suite 200 | Saint Paul | MN | 55130 | 737,570
Southern Minnesota Regional Legal Services, Inc | 55 5th St E Ste 400 | Saint Paul | MN | 55101 | 29,870
Community Action Partnership of Hennepin County | 8800 Highway 7 Ste 401 | St Louis Park | MN | 55426 | 37,277
Community Services League | 404 North Noland Road | Independence | MO | 64050 | 23,288
Better Family Life, Inc | 5415 Page Blvd Ste 204 | Saint Louis | MO | 63112 | 18,363
Community Action Agency of St. Louis County, Inc | 2709 Woodson Rd | Saint Louis | MO | 63114 | 17,117
Housing Options Provided for the Elderly | 4265 Shaw Blvd | Saint Louis | MO | 63110 | 261,946
Youth Education and Health in Soulard | 1901 S 11th St | Saint Louis | MO | 63104 | 24,712
Housing Authority of the City of Jackson | 2747 Livingston Road, 256 East Fortification Street | Jackson | MS | 39213 | 22,453
Housing Education and Economic Development, Inc | 3405 Medgar Evers Blvd | Jackson | MS | 39213 | 32,965
Mississippi Home Corporation | 735 Riverside Drive | Jackson | MS | 39202 | 364,661
Mississippi Homebuyer Education Center—Initiative | 350 West Woodrow Wilson, Suite 3480 | Jackson | MS | 39213 | 382,914
Covenant Faith Outreach Ministries—Covenant Community Development Corporation | 1211 West Main | Tupelo | MS | 38801 | 19,580
Montana Homeownership Network | 509 1st Ave S | Great Falls | MT | 59401 | 459,160
Foothills Credit Counseling, Inc | 709 W Main St, Suite A | Forest City | NC | 28043 | 25,123
Housing Authority of the City of Greensboro | 450 N Church St | Greensboro | NC | 27401 | 20,953
Western Piedmont Council of Governments | 1880 2nd Ave NW | Hickory | NC | 28601 | 32,464
Housing Authority of the City of High Point | 500 E Russell Ave | High Point | NC | 27260 | 22,042
Twin Rivers Opportunities, Inc | 318 Craven St | New Berlin | NC | 28560 | 24,378
North Carolina Housing Coalition | 5800 Faringdon Place | Raleigh | NC | 27609 | 676,208
Raleigh Area Development Authority, Inc | 4030 Wake Forest Road, Suite 205 | Raleigh | NC | 27609 | 23,288
Telamon Corporation | 5560 Munford Road, Suite 109 | Raleigh | NC | 27612 | 435,381
Chatham County Housing Authority | 13450 US Hwy 64 West | Siler City | NC | 27344 | 20,542
Sandhills Community Action Program, Inc | 340 Commerce Avenue, Suite 20 | Southern Pines | NC | 28387 | 25,548
Statesville Housing Authority | 110 W Allison St | Statesville | NC | 28677 | 18,900
North Dakota Housing Finance Agency | 2624 Vermont Avenue | Bismarck | ND | 58504 | 59,318
High Plains Community Development Corporation | 803 E 3rd St Ste 4 | Chadron | NE | 69337 | 30,129
Blue Valley Community Action Partnership | 620 5th St | Fairbury | NE | 68352 | 17,259
Credit Advisors Foundation | 1818 S. 72nd Street | Omaha | NE | 68124 | 138,669
Family Housing Advisory Services, Inc | 2401 Lake St | Omaha | NE | 68111 | 25,072
New Hampshire Housing Finance Authority | 32 Constitution Dr | Bedford | NH | 03110 | 290,146
Senior Citizens United Community Services of Camden County, Inc | 537 W Nicholson Rd | Audubon | NJ | 08106 | 22,802
County of Bergen, Department of Human Services, Division of Senior Services | 1 Bergen County Plz Fl 2 | Hackensack | NJ | 07601 | 18,556
Consumer Credit and Budget Counseling, Dba National Foundation for Debt Management | 299 S Shore Rd, US Route 9 So | Marmora | NJ | 08223 | 135,145
Housing Authority of the City of Paterson | 60 Van Houten St | Paterson | NJ | 07505 | 22,042
Central Jersey Housing Resource Center, Inc | 600 1st Ave Ste 3 | Raritan | NJ | 08869 | 14,500
Ocean Community Economic Action Now, Inc. (O.C.E.A.N., Inc.) | 2008 Route 37 | Toms River | NJ | 08753 | 24,647
Housing & Community Development Network of New Jersey | 145 West Hanover Street | Trenton | NJ | 08618 | 300,106
New Jersey Housing and Mortgage Finance Agency | 637 South Clinton Avenue | Trenton | NJ | 08611 | 160,748
North Hudson Community Action Corporation | 407 39th St Fl 2 | Union City | NJ | 07087 | 18,348
Northern Pueblos Housing Authority | 5 W Gutierrez Ste 10 | Santa Fe | NM | 87506 | 18,348
Southern Nevada Regional Housing Authority | 340 N 11th St | Las Vegas | NV | 89101 | 18,348
Nevada Partners, Inc | 710 W Lake Mead Blvd | North Las Vegas | NV | 89030 | 23,557
New York State Housing Finance Agency | 38-40 State Street, 4th Floor | Albany | NY | 12207 | 700,863
Allegany County Community Opportunities and Rural Development (Accord) Corp | 84 Schuyler St | Belmont | NY | 14813 | 26,982
Metro-Interfaith Housing Management Corporation | 21 New St | Binghamton | NY | 13903 | 17,117
Rockaway Development and Revitalization Corp | 1920 Mott Ave, Suite 2 | Far Rockaway | NY | 11691 | 20,953
City of Fulton Community Development Agency | 125 West Broadway | Fulton | NY | 13069 | 20,005
National Urban League | 120 Wall Street, 7th Floor | New York | NY | 10005 | 1,123,216
New York Mortgage Coalition | 85 Broad Street, 17th Floor | New York | NY | 10004 | 453,476
Strycker's Bay Neighborhood Council, Inc | 696 Amsterdam Avenue | New York | NY | 10025 | 15,066
Niagara Falls Neighborhood Housing Services | 479 16th St | Niagara Falls | NY | 14303 | 22,042
Marketview Heights Association, Inc | 308 North Street | Rochester | NY | 14605 | 23,005
Pathstone Corporation | 400 East Avenue | Rochester | NY | 14607 | 261,565
Hispanic Brotherhood of Rockville Centre, Inc | 59 Clinton Ave | Rockville Centre | NY | 11570 | 20,273
Better Neighborhoods, Incorporated | 120 Emmons St | Schenectady | NY | 12304 | 23,826
Fair Housing Contact Service | 441 Wolf Ledges Pkwy Ste 200 | Akron | OH | 44311 | 26,085
Working in Neighborhoods | 1814 Dreman Ave | Cincinnati | OH | 45223 | 23,967
Community Housing Solutions | 12114 Larchmere Blvd | Cleveland | OH | 44120 | 19,311
CountyCorp | 130 W. Second Street, Suite 1420 | Dayton | OH | 45402 | 20,542
WSOS Community Action Commission, Inc | 109 S Front St | Fremont | OH | 43420 | 28,228
West Ohio Community Action Partnership | 540 S. Central Ave | Lima | OH | 45804 | 20,273
Fair Housing Resource Center | 1100 Mentor Ave | Painesville | OH | 44077 | 32,257
Compass Family & Community Services | 535 Marmion Ave | Youngstown | OH | 44502 | 20,811
Youngstown Metropolitan Housing Authority | 131 W Boardman St | Youngstown | OH | 44503 | 23,415
Youngstown Neighborhood Development Corp | 820 Canfield Road | Youngstown | OH | 44511 | 22,184
Consumer Credit Counseling Service of Central Oklahoma | 3230 N Rockwell Ave | Bethany | OK | 73008 | 34,197
Community Development Support Association | 2615 E Randolph Ave | Enid | OK | 73701 | 18,759
Choctaw Housing Authority | 207 Jim Monroe Rd | Hugo | OK | 74743 | 18,079
Community Action Agency of Oklahoma City & Oklahoma/Canadian Counties, Inc | 319 SW 25th St | Oklahoma City | OK | 73109 | 18,759
Housing Partners of Tulsa, Incorporated | 415 E. Independence Street | Tulsa | OK | 74106 | 16,848
Open Door Counseling Center | 34420 SW Tualatin Valley Hwy | Hillsboro | OR | 97123 | 35,763
Community Connection of Northeast Oregon, Inc | 2802 Adams Ave | La Grande | OR | 97850 | 19,580
Housing Authority of Yamhill County | 135 NE Dunn Pl | McMinnville | OR | 97128 | 23,826
Native American Youth and Family Center | 5135 NE Columbia Blvd | Portland | OR | 97218 | 14,655
Westmoreland Community Action | 226 S Maple Ave | Greensburg | PA | 15601 | 18,079
Pennsylvania Housing Finance Agency | 211 North Front Street | Harrisburg | PA | 17101 | 1,612,373
Mon Valley Initiative | 303-305 E. 8th Avenue | Homestead | PA | 15120 | 794,620
Hispanic Association of Contractors and Enterprises | 167 W Allegheny Ave Suite 200 | Philadelphia | PA | 19140 | 26,161
Intercommunity Action, Inc. DBA Interact, Journey's Way | 403 Rector St | Philadelphia | PA | 19128 | 16,848
Nueva Esperanza, Inc | 4261 N 5th St | Philadelphia | PA | 19140 | 661,310
Pennsylvania Community Real Estate Corp. DBA Tenant Union Representative Network (T.U.R.N.) | 21 S 12th St Fl 11 | Philadelphia | PA | 19107 | 24,109
Corporacion Desarrollo Economico, Vivienda Y Salud | Calle Eugenio M. de Hostos #175, Esq Puro Girau | Arecibo | PR | 00612 | 24,251
Providence Housing Authority | 50 Laurel Hill Ave | Providence | RI | 02909 | 19,580
Community Development & Improvement Corp | 100 Rogers Terrace | Aiken | SC | 29801 | 19,169
Beaufort County Black Chamber of Commerce | 801 Bladen Street | Beaufort | SC | 29902 | 26,586
Southeastern Housing Foundation | 986 Doyle Street | Orangeburg | SC | 29115 | 19,169
South Dakota Housing Development Authority | 3060 E. Elizabeth Street | Pierre | SD | 57501 | 271,990
Gap Community Development Resources, Inc | 129 West Fowlkes Street, Suite 137 | Franklin | TN | 37064 | 21,505
West Tennessee Legal Services, Inc | 210 West Main Street | Jackson | TN | 38301 | 824,040
Eastern Eight Community Development Corp | 214 East Watauga Avenue | Johnson City | TN | 37601 | 25,199
Clinch-Powell Resource Conservation and Development Council, Inc | 7995 Rutledge Pike | Rutledge | TN | 37861 | 25,751
Community Action Network, Inc | 7891 Highway 69 S | Springville | TN | 38256 | 22,594
Easter Seals of Greater Houston, Inc | 4500 Bissonnet St., Suite 340 | Bellaire | TX | 77401 | 21,915
Dallas Area Habitat for Humanity | 2800 N Hampton Rd | Dallas | TX | 75212 | 20,542
East Dallas Community Organization | 4210 Junius St Fl 5 | Dallas | TX | 75246 | 16,706
Transformance | 8737 King George Drive, Suite 200 | Dallas | TX | 75235 | 212,703
Keystone Community Development Corporation | 309 W X St | Deer Park | TX | 77536 | 20,542
City of San Antonio/Department of Human Services | 106 S. Saint Marys St, 7th Floor | San Antonio | TX | 78205 | 24,661
Money Management International Inc | 14141 Southwest Fwy | Sugar Land | TX | 77478 | 3,000,000
Waco Community Development Corporation | 1624 Colcord Ave | Waco | TX | 76707 | 23,005
Utah State University—Family Life Center | 493 N 700 E | Logan | UT | 84321 | 29,166
Community Action Services | 815 S Freedom Blvd Suite 100 | Provo | UT | 84601 | 23,826
Catholic Charities USA | 2050 Ballenger Avenue, Suite 400 | Alexandria | VA | 22314 | 1,117,080
Virginia Housing Development Authority | 601 S. Belvidere Street | Richmond | VA | 23220 | 1,225,258
Virgin Islands Housing Finance Authority | 3202 Demara Plaza, Suite 200 | St. Thomas | VI | 00802 | 25,910
Bennington-Rutland Opportunity Council, Inc | 45 Union St | Rutland | VT | 05701 | 28,086
Washington State Housing Finance Commission | 1000 2nd Avenue Suite 2700 | Seattle | WA | 98104 | 480,901
Movin' Out, Inc | 902 Royster Oaks Drive Suite 105 | Madison | WI | 53714 | 24,788
Tenant Resource Center | 1202 Williamson St., Suite 102 | Madison | WI | 53703 | 23,840
Housing Authority of Mingo Co | 5026 Helena Ave | Delbarton | WV | 25670 | 14,655
Kanawha Institute for Social Research & Action, Inc | 131 Perkins Ave | Dunbar | WV | 25064 | 16,027
Southern Appalachian Labor School Foundation, Inc | 140 School Street | Oak Hill | WV | 25901 | 19,863

Appendix F

FY2017 Lead-Based Paint Hazard Control Grant Program

Contact: Shannon Steinbauer, 202-402-6885.

Recipient |  |  |  |  | Amount
City of Phoenix | 200 West Washington | Phoenix | AZ | 85003-1611 | $2,900,000
Pima County | 33 N. Stone Ave | Tucson | AZ | 85701-1404 | 1,650,000
Fresno County DPH | 1221 Fulton Mall | Fresno | CA | 93721-3604 | 1,000,000
City and County of Denver | 200 W. 14th Ave. #200 | Denver | CO | 80204-2732 | 2,813,904
City of Bridgeport | 999 Broad St | Bridgeport | CT | 06604-4320 | 2,875,000
City of Waterbury | One Jefferson Square | Waterbury | CT | 06706-1102 | 2,900,000
City of Clinton | 611 South 3rd St | Clinton | IA | 52733-2958 | 1,650,000
City of Waterloo | 620 Mulberry St | Waterloo | IA | 50703-5713 | 2,495,893
City of Pocatello | 911 North 7th Ave | Pocatello | ID | 83201-7700 | 1,499,999
Wyandotte County | 701 N. 7th St., #823 | Kansas City | KS | 66101-3035 | 1,650,000
Louisville/Jefferson County Metro Government | 527 W. Jefferson St | Louisville | KY | 40202-2814 | 2,899,990
City of Brockton | 45 School St | Brockton | MA | 02301-4049 | 1,367,085
Malden Redevelopment Authority | 17 Pleasant St | Malden | MA | 02148-5106 | 1,367,085
Charter County of Wayne | 33030 Van Born Rd | Wayne | MI | 48184-0000 | 2,900,000
City of Jackson | 161 W Michigan Ave | Jackson | MI | 49201-1315 | 2,900,000
City of Minneapolis | 350 South 5th St., Room 301M | Minneapolis | MN | 55415-1384 | 2,900,000
Kansas City Health Department | 2400 Troost Ave., Suite 3400 | Kansas City | MO | 64108-2666 | 2,900,000
City of Greensboro | 300 W. Washington St | Greensboro | NC | 27402-3136 | 2,900,000
City of Nashua | 229 Main St | Nashua | NH | 03060-2938 | 2,900,000
New Hampshire Housing Finance Authority | 32 Constitution Dr | Bedford | NH | 03110-6062 | 2,900,000
City of Las Vegas | 495 S. Main St | Las Vegas | NV | 89101-6318 | 1,649,710
City of Toledo | One Government Center | Toledo | OH | 43604-2275 | 2,900,000
Cuyahoga County Board of Health | 5550 Venture Dr | Parma | OH | 44130-9315 | 2,900,000
County of Northampton | 669 Washington St | Easton | PA | 18042-8785 | 1,650,000
City of Chattanooga | 101 E 11th St., City Hall, Suite 200 | Chattanooga | TN | 37402-4201 | 1,650,000
City of Richmond | 900 East Broad St | Richmond | VA | 23219-1907 | 2,710,314
City of Roanoke | 215 Church Ave. SW, Rm 208 North | Roanoke | VA | 24011-0016 | 2,719,660
City of Burlington | 149 Church St | Burlington | VT | 05401-8400 | 2,900,000

Appendix G

FY2017 Lead Hazard Reduction Demonstration Grant Program

Contact: Shannon Steinbauer, 202-402-6885.

Recipient |  |  |  |  | Amount
City of Phoenix | 200 West Washington | Phoenix | AZ | 85003-1611 | $2,900,000
Pima County | 33 N. Stone Ave | Tucson | AZ | 85701-1404 | 1,650,000
County of Los Angeles | 313 N. Figueroa St | Los Angeles | CA | 90012-2602 | 3,400,000
City of Hartford | 550 Main St | Hartford | CT | 06103-2913 | 3,400,000
State of Connecticut Department of Housing | 505 Hudson St | Hartford | CT | 06106-7107 | 3,400,000
State of Indiana | 30 S. Meridian St | Indianapolis | IN | 46204-3564 | 3,400,000
City of Somerville | City Hall, 93 Highland Ave | Somerville | MA | 02143-1740 | 1,703,572
City of Lewiston | 27 Pine St | Lewiston | ME | 04240-7204 | 3,400,000
Hennepin County | 701 4th Ave. S, Rm 400 | Minneapolis | MN | 55415-1843 | 3,400,000
City of St. Louis | 1520 Market St | St. Louis | MO | 63101-2630 | 2,100,000
County of Hudson | 830 Bergen Ave | Jersey City | NJ | 07306-4517 | 2,424,097
City of Rochester | 30 Church St | Rochester | NY | 14614-1290 | 1,000,000
City of Schenectady | 105 Jay St | Schenectady | NY | 12305-1905 | 2,999,755
The City of New York | 100 Gold St | New York | NY | 10038-1605 | 3,400,000
City of Cincinnati | 801 Plum St | Cincinnati | OH | 45202-0000 | 3,400,000
City of Cleveland | 601 Lakeside Ave | Cleveland | OH | 44114-1015 | 3,400,000
City of Portland, Oregon | 1120 SW Fifth Ave., Room 1250 | Portland | OR | 97204-1912 | 3,400,000
Redevelopment Authority of the City of Erie | 626 State St., Rm 107 | Erie | PA | 16501-1146 | 3,000,000
City of Providence | 444 Westminster St | Providence | RI | 02903-3206 | 3,400,000
City of Fort Worth | 200 Texas St | Fort Worth | TX | 76102-6312 | 3,400,000
Houston | 8000 N. Stadium Dr., 2nd Floor | Houston | TX | 77054-1823 | 3,000,000
Kenosha County | 8600 Sheridan Rd., Suite 600 | Kenosha | WI | 53143-6515 | 3,300,000

[FR Doc. 2017-21331 Filed 10-3-17; 8:45 am]

BILLING CODE 4210-67-P